DEPARTMENT OF THE INTERIOR

Bureau of Indian Affairs

Indian Child Welfare Act; Receipt of Designated Tribal Agents for Service of Notice

AGENCY: Bureau of Indians Affairs, Interior.

ACTION: Notice.

SUMMARY: This notice is published in exercise of authority delegated by the Secretary of the Interior to the Principal Deputy Assistant Secretary—Indian Affairs by 209 DM 8.

The regulations implementing the Indian Child Welfare Act provide that Indian tribes may designate an agent other than the tribal chairman for service of notice proceedings under the Act, 25 CFR 23.12. The Secretary of the Interior shall publish in the Federal Register on an annual basis the names and addresses of the designated agents.

This is the current list of Designated Tribal Agents for service of notice, and includes the listings of designated tribal agents received by the Secretary of the Interior prior to the date of this publication.

FOR FURTHER INFORMATION CONTACT: Evangeline M. Campbell, Indian Child Welfare Supervisory Social Worker, Bureau of Indian Affairs, Human Service Division, 1849 C Street, NW., Mail Stop 4513-MIB, Washington, DC 20240; Telephone: (202) 513-7623.

Dated: July 24, 2006.
Michael D. Olsen,
Principal Deputy Assistant Secretary—Indian Affairs.

Alaska Region

Niles Cesar, Regional Director, Alaska Regional Office, P.O. Box 25520, 709 W. 9th, 3rd Floor, Federal Building, Juneau, AK 99802-5520; Telephone: (800) 645-8397; Fax: (907) 586-7252.

Gloria Kate Gorman, M.S.W., Human Services Director, P.O. Box 25520, 709 W. 9th, 3rd Floor, Federal Building, Juneau, AK 99802-5520; Telephone: (800) 645-8397 Ext. 2; Fax: (907) 586-7057.

A

Native Village of Afognak (formerly the Village of Afognak), Melissa Borton, Program Manager, 204 E. Rezanof, Suite 100, Kodiak, AK 99615; Telephone: (907) 486-6357; Fax: (907) 486-6529; E-mail: melissa@afognak.org.

Agdaagux Tribe of King Cove, David Eguia, Tribal Representative, P.O. Box 249, King Cove, AK 99612; Telephone: (907) 497-2648; Fax: (907) 497-2803.

Native Village of Akhiok, Randy Amodo, ICWA, P.O. Box 5054, Akhiok, AK 99615; Telephone: (907) 836-2220; Fax: (907) 836-2234; and Kathleen McInally, LCSW, Social Worker, Kodiak Area Native Association, 3449 E. Rezanof Drive, Kodiak, AK 99615; Telephone: (907) 486-9843; Fax: (907) 486-9886; E-mail: kathleen.mcinally@kanaweb.org.

Akiachak Native Community, Georgiann Wassilie, Tribal Family Services, ICWA Program, P.O. Box 51070, Akiachak AK 99551-0070; Telephone: (907) 825-4626 or 4073; Fax: (907) 825-4029 or 4075; E-mail: yupiat@unicom-alaska.com.

Akiak Native Community, Andrea Jasper, Social Services Director, Rhonda Andrews, ICWA Coordinator, P.O. Box 52127, Akiak, AK 99552; Telephone: (907) 765-7117 or 7112; Fax: (907) 765-7512 or 7120; E-mail: akiaknc@unicom-alaska.com.

Native Village of Akutan, Jacob Stepetin, Administrator, P.O. Box 89, Akutan, AK 99553; Telephone: (907) 698-2300; Fax (907) 698-2301; E-mail: akutanaleuttribe@gci.net; and Grace Smith, Tribal Representative, Aleutian/Pribilof Islands Association, 201 E. 3rd Ave., Anchorage, AK 99501; Telephone: (907) 276-2700 or 222-4236; Fax: (907) 279-4351; E-mail: graces@apiai.org.

Village of Alakanuk, Charlene Smith, ICWA Worker, P.O. Box 149, Alakanuk AK 99554; Telephone: (907) 238-3704; Fax: (907) 238-3705; and Association of Village Council Presidents, ICWA Counsel, P.O. Box 219, Bethel, AK 99559; Telephone: (907) 543-7366; Fax: (907) 543-5759.

Alatna Village, Tribal President and Tribal Administrator, P.O. Box 70, Allakaket, AK 99720; Telephone: (907) 968-2261; Fax: (907) 968-2305; and Legal Department, Tanana Chiefs Conference, Inc., 122 First Avenue, Suite 600, Fairbanks, AK 99701; Telephone: (907) 452-8251 Ext. 3177; Fax: (907) 459-3953.

Native Village of Aleknagik, Jaclyn M. Alakayak, Tribal Children Service Worker, P.O. Box 115, Aleknagik, AK 99555; Telephone: (907) 842-4577; Fax: (907) 842-2229; E-mail: alektrad@nushtel.com; and Children's Services Program Manager, Bristol Bay Native Association, P.O. Box 310, 1500 Kanakanak Road, Dillingham, AK 99576; Telephone: (907) 842-4139; Fax: (907) 842-4106; E-mail: cnixon@bbna.com.

Algaaciq Native Village (St. Mary's), Esther Tyson, ICWA Coordinator, P.O. Box 48, St. Mary's, AK 99658-0048; Telephone: (907) 438-2335; Fax: (907) 438-2227; and Association of Village Council Presidents, ICWA Counsel, P.O. Box 219, Bethel, AK 99559; Telephone: (907) 543-7366; Fax: (907) 543-5759.

Allakaket Village, Tribal President and Tribal Administrator, P.O. Box 50, Allakaket, AK 99720; Telephone: (907) 968-2237; Fax: (907) 968-2233; E-mail: wilmadavid@tananachiefs.org; and Legal Department, Tanana Chiefs Conference, Inc., 122 First Avenue, Suite 600, Fairbanks, AK 99701; Telephone: (907) 452-8251; Fax: (907) 459-3953.

Native Village of Ambler, Mary J. Ramoth, ICWA Coordinator, Box 47, Ambler, AK 99786-0047; Telephone: (907) 445-2189; Fax: (907) 445-2181; E-mail: mary.ramoth@ivisaappaat.org

Village of Anaktuvuk Pass, Tribal Administrator, P.O. Box 21065, Anaktuvuk Pass, AK 99721; Telephone: (907) 661-2575; Fax: (907) 661-2576; and Margie Smith, Acting Social Services Director, ICWA Program, and Sharon Thompson, Coordinator, Arctic Slope Native Association, Social Services, 1949 Gillam Way, Suite 210, Fairbanks, AK 99701; Telephone: (907) 456-1438; Toll Free: 1-877-478-4292; Fax: (907) 456-3941; E-mail: Sharon.thompson@arcticslope.org.

Yupiit of Andreafski, Ursula Hunt, Interim Tribal Administrator, P.O. Box 88, St. Mary's, AK 99658-0088; Telephone: (907) 438-2312; Fax: (907) 438-2512.

Angoon Community Association, Marlene Zuboff, ICWA Coordinator, P.O. Box 190, Angoon, AK 99820; Telephone: (907) 788-3411; Fax: (907) 788-3412; E-mail: rjack@angoon_ak.com.

Village of Aniak, Wayne Morgan, Chief, Box 349, Aniak, AK 99557; Telephone: (907) 675-4349; Fax: (907) 675-4513.

Anvik Village, Violet Kruger, Tribal Administrator, P.O. Box 10, Anvik, AK 99558; Telephone: (907) 663-6322; Fax: (907) 663-6357; E-mail: anviktribal@anviktribal.net; and Legal Department, Tanana Chiefs Conference, Inc., 122 First Avenue, Suite 600, Fairbanks, AK 99701; Telephone: (907) 452-8251; Fax: (907) 459-3953.

Arctic Village (see Native Village of Venetie Tribal Government).

Asa'carsarmiut Tribe (formerly Native Village of Mountain Village), Evelyn D. Peterson or Mabel A. Hess, ICWA Program, P.O. Box 32107, Mountain Village, AK 99632; Telephone: (907) 591-2428; Fax: (907) 591-2934; E-mail: atcicwa@starband.net.

Native Village of Atka, Grace Smith, Tribal Representative, Aleutian/Pribilof Islands Association, 201 E. 3rd Avenue, Anchorage, AK 99501; Telephone: (907) 276-2700 or (907) 222-4236; Fax: (907) 279-4351; E-mail: graces@apiai.com.

Village of Atmautluak, Louise G. Pavilla, ICWA Worker, P.O. Box 6568, Atmautluak, AK 99559; Telephone: (907) 553-5510; Fax: (907) 553-5150.

Atqasuk Village (Atkasook), Candace Itta, President, P.O. Box 91108, Atqasuk, AK 99791; Telephone: (907) 633-2575; Fax: (907) 633-2576; E-mail: icastaq@astacalaska.net; and Margie Smith, Acting Social Services Director/ICWA, and Sharon Thompson, Coordinator, Arctic Slope Native Association, Social Services, 1949 Gillam Way, Suite 210, Fairbanks, AK 99701; Telephone: (907) 456-1438; Toll Free: 1-877-478-4292; Fax: (907) 456-3941; E-mail: sharon.thompson@arcticslope.org.

B

Native Village of Barrow Inupiat Traditional Government, Marie H. Ahsoak, Social Services Director, P.O. Box 1130, Barrow, AK 99723; Telephone: (907) 852-4411 Ext. 208; direct line: (907) 852-8908; Fax: (907) 852-4413.

Beaver Village, Wilma Pitka, Tribal Administrator/ICWA, P. O. Box 24029, Beaver, AK 99724; Telephone: (907) 628-6126; Fax: (907) 628-6815; and Legal Department, Tanana Chiefs Conference, Inc., 122 First Avenue, Suite 600, Fairbanks, AK 99701; Telephone: (907) 452-8251 Ext. 3177; Fax: (907) 452-3953.

Native Village of Belkofski, Grace Smith, Tribal Representative, Aleutian/Pribilof Islands Association, 201 E. 3rd Avenue, Anchorage, AK 99501; Telephone: (907) 276-2700 or 222-4236; Fax: (907) 279-4351; E-mail: graces@apiai.org.

Bethel Village (see Orutsararmuit)

Village of Bill Moore's Slough, Pauline Okitkun, Tribal Administrator, Nancy C. Andrews, ICWA Worker, P.O. Box 20288, Keyes Korner #2, Kotlik, AK 99620; Telephone: (907) 899-4232 or 4236; Fax: (907) 899-4002; E-mail: pokitkun@avcp.org; paulineo@gci.net.

Birch Creek Tribe, Legal Department, Tanana Chiefs Conference, Inc., 122 First Avenue, Suite 600, Fairbanks, AK 99701; Telephone: (907) 452-8251 Ext. 3177; Fax: (907) 459-3953.

Native Village of Brevig Mission, Linda M. Tocktoo, Tribal Family Coordinator, P.O. Box 85039, Brevig Mission, AK 99785; Telephone: (907) 642-3012; Fax: (907) 642-3042; E-mail: linda@kawerak.org.

Native Village of Buckland, Jimmy Geary, Sr., IRA President, P.O. Box 67, Buckland, AK 99727-0067; Telephone: (907) 494-2171; Fax: (907) 494-2217.

C

Native Village of Cantwell, Gay Wellman, Temporary ICWA Employee, and Tribal Administrator, Copper River Native Association, Drawer H, Copper Center, AK 99573; Telephone: (907) 822-5241; Fax: (907) 822-8801.

Central Council of the Tlingit and Haida Indian Tribes, Indian Child Welfare Coordinator, 320 W. Willoughby Avenue, Suite 300, Juneau, AK 99801; Telephone: (907) 463-7163/7148; Fax: (907) 463-7343; E-mail: mdoyle@ccthita.org.

Chalkyitsik Village, Stephanie Herbert, ICWA/Social Services, P.O. Box 57, Chalkyitsik, AK 99788; Telephone: (907) 848-8117; Fax: (907) 848-8693; and Legal Department, Tanana Chiefs Conference, Inc., 122 First Avenue, Suite 600, Fairbanks, AK 99701; Telephone: (907) 452-8251 Ext. 3177; Fax: (907) 459-3953.

Cheesh-Na Tribe (formerly the Native Village of Chistochina), Elaine Sinyon, Tribal Administrator, P.O. Box 241, Gakona, AK 99586-0241; Telephone: (907) 822-3503; Fax: (907) 822-5179; E-mail: esinyon@cheeshna.com.

Village of Chefornak, Edward Kinegak, ICWA Specialist, P.O. Box 110, Chefornak, AK 99561-0110; Telephone: (907) 867-8808; Fax: (907) 867-8711; E-mail: ekinegak@avcp.org; and Association of Village Council Presidents, ICWA Counsel, P.O. Box 219, Bethel, AK 99559; Telephone: (907) 543-7366; Fax: (907) 543-5759.

Native Village of Chanega (aka Chenega), Norma Selanoff, ICWA Worker, P.O. Box 8079, Chenega Bay, AK 99574; Telephone: (907) 573-5386; Fax: (907) 573-5387; E-mail: chenegaira@aol.com; and Paula Pinder, Chugachmiut, Inc., 4201 Tudor Centre Drive, Suite 210, Anchorage, AK 99508; Telephone: (907) 562-4155; Fax: (907) 563-2891.

Chevak Native Village (aka Qissunamiut Tribe), Esther Friday, ICWA Director, P.O. Box 140, Chevak, AK 99563-0140; Telephone: (907) 858-7918; Fax: (907) 858-7919.

Chickaloon Native Village, Penny Westing, ICWA Case Manager, P.O. Box 1105, Chickaloon, AK 99674-1105; Telephone: (907) 745-0707; Fax: (907) 745-0709; E-mail: pwesting@matnet.com or cvadmin@chickaloon.org.

NativeVillage of Chignik, Marlene Stepanoff, Tribal Children's Service Worker, P.O. Box 50, Chignik, AK 99564; Telephone: (907) 749-2234; Fax: (907) 749-2222; and Children's Services Program Manager, Bristol Bay Native Association, P.O. Box 310, 1500 Kanakanak Road, Dillingham, AK 99576; Telephone: (907) 842-4139; Fax: (907) 842-4106; E-mail: cnixon@bbna.com.

Native Village of Chignik, Lagoon, Danial Campbell, Youth Activities Coordinator, P.O. Box 09, Chignik Lagoon, AK 99565; Telephone: (907) 840-2281; Fax: (907) 840-2217; E-mail: clagoon@gci.net; and Children's Services Program Manager, Bristol Bay Native Association, P.O. Box 310, 1500 Kanakanak Road, Dillingham, AK 99576; Telephone: (907) 842-4139; Fax: (907) 842-4106; E-mail: cnixon@bbna.com.

Chignik Lake Village, Crystal Kalmakoff, Tribal Children's Service Worker, P.O. Box 33, Chignik Lake, AK 99548; Telephone: (907) 845-2358; Fax: (907) 845-2246; and Children's Services Program Manager, Bristol Bay Native Association, P.O. Box 310, 1500 Kanakanak Road, Dillingham, AK 99576; Telephone: (907) 842-4139; Fax: (907) 842-4106; E-mail: cnixon@bbna.com.

Chilkat Indian Village (Klukwan), Elizabeth Strong, Tribal Services Specialist, P.O. Box 210, Haines, AK 99827-0210; Telephone: (907) 767-5505; Fax: (907) 767-5408; E-mail: 1strong@chilkatindianvillage.org.

Chilkoot Indian Association (Haines), Stella Howard, Family Caseworker II, P.O. Box 624, Haines, AK 99827; Telephone: (907) 766-2810; Fax: (907) 766-2845; E-mail: showard@ccthita.org.

Chinik Eskimo Community (Golovin), Sherri Lewis-Amaktoolik, Tribal Family Coordinator, P.O. Box 62019, Golovin, AK 99762; Telephone: (907) 779-3489; Fax: (907) 779-2000; E-mail: glv.tfc@kawerak.org.

Chistochina (see Cheesh-na).

Native Village of Chitina, Christopher M. Hatch, ICWA Case Worker, P.O. Box 31, Chitina, AK 99566; Telephone: (907) 823-2215; Fax: (907) 823-2233.

Native Village of Chuathbaluk (Russian Mission, Kuskokwim), Tracy M. Simeon, ICWA Worker, P.O. Box CHU, Chuathbaluk, AK 99557; Telephone: (907) 467-4323; Fax: (907) 467-4113.

Chuloonawick Native Village, Priscilla Kameroff, ICWA Worker, P. O. Box 126, Emmonak, AK 99581; Telephone: (907) 949-1820; Fax: (907) 949-1384.

Circle Native Community, Margaret M. Henry-John, Tribal Family & Youth Specialist, P.O. Box 89, Circle, AK 99733; Telephone: (907) 773-2822; Fax: (907) 773-2823 or 2820; and Legal Department, Tanana Chiefs Conference, Inc., 122 First Avenue, Suite 600, Fairbanks, AK 99701; Telephone: (907) 452-8251 Ext. 3177; Fax: (907) 459-3953.

Village of Clarks Point, Betty Gardiner-Wassily, P.O. Box 90, Clarks Point, AK 99569; Telephone: (907) 236-1286; Fax: (907) 236-1449; and Children's Services Program Manager, Bristol Bay Native Association, P.O. Box 310, 1500 Kanakanak Road, Dillingham, AK 99576; Telephone: (907) 842-4139; Fax: (907) 842-4106; E-mail: cnixon@bbna.com.

Copper Center (see Native Village of Kluti-Kaah).

Native Village of Council, Tribal President and ICWA Coordinator, P.O. Box 2050, Nome, AK 99762; Telephone: (907) 443-7649; Fax: (907) 443-5965; E-mail: council@alaska.com.

Craig Community Association, Millie Stevens, Tribal President and Timothy R. Booth, Family Caseworker II, P.O. Box 746, Craig AK 99921; Telephone: (907) 826-3948; Fax: (907) 826-5526; E-mail: tbooth@ccthita.org.

Village of Crooked Creek, Tribal President and ICWA Worker, P.O. Box 69, Crooked Creek, AK 99575; Telephone: (907) 432-2200; Fax: (907) 432-2201; E-mail: cctc@starband.net.

Curyung Tribal Council (formerly the Native Village of Dillingham), Mr. Chris Itumulria, Tribal Children Service Worker, P.O. Box 216, Dillingham, AK 99576; Telephone: (907) 842-4508; Fax: (907) 842-4510; E-mail: chrisi@starband.net; and Children's Services Program Manager, Bristol Bay Native Association, P.O. Box 310, 1500 Kanakanak Road, Dillingham, AK 99576; Telephone: (907) 842-4139; Fax: (907) 842-4106; E-mail: cnixon@bbna.com.

D

Native Village of Deering, Carl Thomas, ICWA Coordinator, P.O. Box 36089, Deering, AK 99736-0089; Telephone: (907) 363-2138; Fax: (907) 363-2195; E-mail: carl.thomas@ipnatchiaq.org.

Dillingham (see Curyung).

Native Village of Diomede (aka Inalik), Jamie Ahkinga, ICWA Coordinator, P.O. Box 7079, Diomede, AK 99762; Telephone: (907) 686-2202; Fax: (907) 686-2203.

Village of Dot Lake, William Miller, President, P.O. Box 2279, Dot Lake, AK 99737-2275; Telephone: (907) 882-2695; Fax: (907) 882-5558; and Legal Department, Tanana Chiefs Conference, Inc., 122 1st Avenue, Suite, 600, Fairbanks, AK 99701; Telephone: (907) 452-8251 Ext. 3177; Fax: (907) 459-3953.

Douglas Indian Association, Sue Ann Lindoff, Family Caseworker, P.O. Box 240541, Douglas, AK 99824; Telephone: (907) 364-2983; Fax: (907) 364-2917; E-mail: slindoff@ccthita.org; and Indian Child Welfare Coordinator, Central Council Tlingit and Haida Indian Tribes of Alaska, 320 W. Willoughby, Suite 300, Juneau, AK 99801; Telephone: (907) 463-7148; Fax: (907) 463-7343; E-mail: mdoyle@ccthita.org.

E

Native Village of Eagle, Tribal President and ICWA Worker, P.O. Box 19, Eagle, AK 99738; Telephone: (907) 547-2271; Fax: (907) 547-2318; and Legal Department, Tanana Chiefs Conference, Inc., 122 1st Avenue, Suite, 600, Fairbanks, AK 99701; Telephone: (907) 452-8251 Ext. 3177; Fax: (907) 459-3953.

Native Village of Eek, Maryann Hawk, ICWA Worker, P.O. Box 63, Eek, AK 99578-0063; Telephone: (907) 536-5572; Fax: (907) 536-5711; E-mail: mhawk@avcp.org; and Association of Village Council Presidents, ICWA Counsel, P.O. Box 219, Bethel, AK 99559; Telephone: (907) 543-7366; Fax: (907) 543-5759.

Egegik Village, Marcia Abalama, Tribal Children's Service Worker, P.O. Box 29, Egegik, AK 99579; Telephone: (907) 233-2207; Fax: (907) 233-2312; and Children's Services Program Manager, Bristol Bay Native Association, P.O. Box 310, 1500 Kanakanak Road, Dillingham, AK 99576; Telephone: (907) 842-4139; Fax: (907) 842-4106; E-mail: cnixon@bbna.com.

Eklutna Native Village, Dayna McGuire, ICWA/Foster Care Coordinator, 201 Barrow Street, Suite 102B, Anchorage, AK 99501; Telephone: (907) 278-5437; Fax: (907) 278-4293; E-mail: nvecac.icwa@eklutna-nsn.gov.

Native Village of Ekuk, Nena M. Larsen, Tribal Administrator, 300 Main St., P.O. Box 530, Dillingham, AK 99576; Telephone: (907) 842-3842; Fax: (907) 842-3843; E-mail: ekuktrib@starband.net; and Children's Services Program Manager, Bristol Bay Native Association, P.O. Box 310, 1500 Kanakanak Road, Dillingham, AK 99576; Telephone: (907) 842-4139; Fax: (907) 842-4106; E-mail: cnixon@bbna.com.

Ekwok Village, Sandra Stermer, Tribal Children Service Worker, P.O. Box 70, Ekwok, AK 99580; Telephone: (907) 464-3349; Fax: (907) 464-3350; E-mail: sstermer@starband.net; and Children's Services Program Manager, Bristol Bay Native Association, P.O. Box 310, 1500 Kanakanak Road, Dillingham, AK 99576; Telephone: (907) 842-4139; Fax: (907) 842-4106; E-mail: cnixon@bbna.com.

Native Village of Elim, Joseph H. Murray, Tribal Family Coordinator, P.O. Box 39070, Elim, AK 99739-0070; Telephone: (907) 890-2457; Fax: (907) 890-2458; E-mail: icwa.eli@kawerak.org.

Emmonak Village, Priscilla S. Kameroff, ICWA Coordinator, P.O. Box 126, Emmonak, AK 99581-0126; Telephone: (907) 949-1820 or 1720; Fax: (907) 949-1384; E-mail: etcadmin@unicom.alaska.com.

English Bay (see Native Village of Nanwalek).

Evansville Village (aka Bettles Field), Naomi Costello, Tribal Administrator, P.O. Box 26087, Bettles Field, AK 99726; Telephone: (907) 692-5005; Fax: (907) 692-5006; and Legal Department, Tanana Chiefs Conference, Inc., 122 First Avenue, Suite 600, Fairbanks, AK 99701; Telephone: (907) 452-8251 Ext. 3177; Fax: (907) 459-3953.

Native Village of Eyak (Cordova), Erin Kurz, ICWA Worker, P.O. Box 1388, Cordova, AK 99574; Telephone: (907) 424-7738; Fax: (907) 424-7739; E-mail: erin@nveyak.org.

F

Native Village of False Pass, Grace Smith, Tribal Representative, Aleutian/Pribilof Islands Association, 201 E. 3rd Avenue, Anchorage, AK 99501; Telephone: (907) 276-2700 or 222-4236; Fax: (907) 279-4351; E-mail: graces@apiai.org.

Native Village of Fort Yukon, Arlene Joseph, and Audrey Fields, ICWA Social Workers, P.O. Box 126, Fort Yukon, AK 99740; Telephone: (907) 662-3625; Fax: (907) 662-2222; and Legal Department, Tanana Chiefs Conference, Inc., 122 First Avenue, Suite 600, Fairbanks, AK 99701; Telephone: (907) 452-8251 Ext. 3177; Fax: (907) 452-3883 or 3851.

Fortuna Ledge (see Native Village of Marshall).

G

Native Village of Gakona, Charlene Nollner, Tribal Administrator, P.O. Box 102, Gakona, AK 99586; Telephone: (907) 822-5777; Fax: (907) 822-5997; E-mail: gakonaadmin@cvinternet.net; and Angel Craig, Social Services, Copper River Native Association, P.O. Box H, Copper Center, AK 99573; Telephone: (907) 822-5241 Ext. 243; Fax: (907) 822-8801.

Galena Village (AKA Louden Village), Dean Westlake, Tribal Administrator, P.O. Box 244, Galena, AK 99741; Telephone: (907) 656-1711; Fax: (907) 656-1716; and Legal Department, Tanana Chiefs Conference, Inc., 122 First Avenue, Suite 600, Fairbanks, AK 99701; Telephone: (907) 452-8251 Ext. 3177; Fax: (907) 452-3953.

Native Village of Gambell, Charlene Apangalook, ICWA Coordinator, P.O. Box 90, Gambell, AK 99742; Telephone: (907) 985-5346 Ext. 4; Fax: (907) 985-5014.

Native Village of Georgetown, Tribal President and Tribal Administrator, 1400 Virginia Ct., Anchorage, AK 99501; Telephone: (907) 274-2195; Fax: (907) 274-2196; E-mail: gtc@gci.net.

Golovin (see Chinik Eskimo Community).

Native Village of Goodnews Bay, Tribal Administrator and Human Services Director, P.O. Box 138, Goodnews Bay, AK 99589; Telephone: (907) 967-8929; Fax: (907) 967-8330.

Organized Village of Grayling (aka Holikachuk), Sue Ann Gochenauer, Tribal Family Youth Specialist, P.O. Box 49, Grayling, AK 99590; Telephone: (907) 453-5142; Fax: (907) 453-5146; E-mail: sue.gochenauer@tananachiefs.org; and Legal Department, Tanana Chiefs Conference, Inc., 122 First Avenue, Suite 600, Fairbanks, AK 99701; Telephone: (907) 452-8251 Ext. 3177; Fax: (907) 459-3953.

Gulkana Village, Mr. LaMonica Claw, Tribal Administrator, P.O. Box 254, Gakona, AK 99586-0254; Telephone: (907) 822-3746; Fax: (907) 822-3976; E-mail: icwa@gulkanacouncil.org.

H

Haines (see Chilkoot Indian Association).

Native Village of Hamilton, Henrietta Teeluk, Tribal Administrator, P.O. Box 20248, Kotlik, AK 99620-0248; Telephone: (907) 899-4252 or 4255; Fax: (907) 899-4202; E-mail: hteeluk@avcp.org.

Healy Lake Village, Tribal President and Tribal Administrator, P.O. Box 60300, Fairbanks, AK 99706; Telephone: (907) 876-5017; Fax: (907) 876-5013; and Legal Department, Tanana Chiefs Conference, Inc., 122 First Avenue, Suite 600, Fairbanks, AK 99701; Telephone: (907) 452-8251 Ext. 3177; Fax: (907) 459-3953.

Holy Cross Village, Rosalie Wulf, Tribal Family Youth Specialist, P.O. Box 191, Holy Cross, AK 99602; Telephone: (907) 476-7169; Fax: (907) 476-7132; E-mail: Rosalie.wulf@tananachiefs.org; and Legal Department, Tanana Chiefs Conference, Inc., 122 First Avenue, Suite 600, Fairbanks, AK 99701; Telephone: (907) 452-8251 Ext. 3177; Fax: (907) 459-3953.

Hoonah Indian Association, Hattie Dalton, Director of Human Services, P.O. Box 603, Hoonah, AK 99829-0602; Telephone: (907) 945-3545 Ext. 25; Fax: (907) 945-3703; E-mail: hdalton@hiatribe.org.

Native Village of Hooper Bay, Lillian Gump, ICWA-Community Family Service Specialist, and Elmer Simon, Tribal Administrator, P.O. Box 62, Hooper Bay, AK 99604; Telephone: (907) 758-4006 or 4915; Fax: (907) 758-4606 or 4066; and Association of Village Council Presidents, ICWA Counsel, P.O. Box 219, Bethel, AK 99559; Telephone: (907) 543-7366; Fax: (907) 543-5759.

Hughes Village, Janet Bifelt, Tribal Administrator, P.O. Box 45029, Hughes, AK 99745; Telephone: (907) 889-2239; Fax: (907) 889-2252; E-mail: janet.bifelt@tananachiefs.org; and Legal Department, Tanana Chiefs Conference, Inc., 122 First Avenue, Suite 600, Fairbanks, AK 99701; Telephone: (907) 452-8251 Ext. 3177; Fax: (907) 459-3883 or 3851.

Huslia Village, S. Joyce Sam, Tribal Family Youth Specialist/ICWA, P.O. Box 70, Huslia, AK 99746; Telephone: (907) 829-2291; Fax: (907) 829-2214; and Legal Department, Tanana Chiefs Conference, Inc., 122 First Avenue, Suite 600, Fairbanks, AK 99701; Telephone: (907) 452-8251 Ext. 3177; Fax: (907) 459-3953.

Hydaburg Cooperative Association, Eileen J. Carle, Human Services Director, P.O. Box 349, Hydaburg AK 99922; Telephone: (907) 285-3662; Fax: (907) 285-3470 or 3541.

Igiugig Village, Bernadette Andrew, Social Services Director, P.O. Box 4008, Igiugig, AK 99613; Telephone: (907) 533-3211; Fax: (907) 533-3217; E-mail: bmhandrew@2ol.com.

Village of Iliamna, Tim Anelon, Administrator, or Maria Anelon, Administrative Assistant, P.O. Box 286, Iliamna, AK 99606-0286; Telephone: (907) 571-1246; Fax: (907) 571-1256; E-mail: ilivc@aol.com.

Iqurmuit Traditional Council (formerly the Native Village of Russian Mission), Steven Nick, ICWA Coordinator, P.O. Box 09, Russian Mission, AK 99657-0009; Telephone: (907) 584-5594; Fax: (907) 584-5593; E-mail: snick@avcp.org; and Association of Village Council Presidents, ICWA Counsel, P.O. Box 219, Bethel, AK 99559; Telephone: (907) 543-7366; Fax: (907) 543-5759.

Ivanoff Bay Village, Edgar Shangin, President, 2518 E. Tudor Rd., Suite 210, Anchorage, AK 99501; Telephone: (907) 522-2263; Fax: (907) 522-2363; E-mail: ibvc@ivanofbay.com.

K

Kaguyak Village, Kara Amodo, Tribal Manager, P.O. Box 5078, Akhiok, AK 99615; Telephone: (907) 836-2231; Fax: (907) 836-2232.

Organized Village of Kake, Anne Jackson Social Service Director, P.O. Box 316, Kake, AK 99830-0316; Telephone: (907) 785-6471; Fax: (907) 785-4902; E-mail: ajackson@kakefirstnation.org.

Kaktovik Village (aka Barter Island), Isaac Akootchook, President, P.O. Box 73, Kaktovik, AK 99747; Telephone: (907) 640-2042; Fax: (907) 640-2044; and Sharon Thompson, ICWA Coordinator, Arctic Slope Native Association, 1949 Gillam Way, Suite 210, Fairbanks, AK 99701; Telephone: 1-877-478-4292 or (907) 456-1438; Fax: (907) 456-3941; E-mail: sthompson@asna.alaska.ihs.gov; or sharonthompson@arcticslope.org.

Village of Kalskag (aka Upper Kalskag), Bernice Hetheryton, Administrator, and Lisa Holmberg, CFSS, P.O. Box 50, Upper Kalskag, AK 99607; Telephone: (907) 471-2207 or 2418; Fax: (907) 471-2399; E-mail: lholmberg@avcp.org; and Association of Village Council Presidents, ICWA Counsel, P.O. Box 219 Bethel, AK 99559; Telephone: (907) 543-7366; Fax: (907) 543-5759.

Village of Lower Kalskag, Flora Levi, ICWA, Community Family Service Specialist, P.O. Box 27, Lower Kalskag, AK 99626; Telephone: (907) 471-2412; Fax: (907) 471-2412; E-mail: flevi@avcp.org; and Association of Village Council Presidents, ICWA Counsel, P.O. Box 219, Bethel, AK 99559; Telephone: (907) 543-7366; Fax: (907) 543-5759.

Village of Kaltag, Eleanor Maillelle, Tribal Family Youth Specialist, P.O. Box 129, Kaltag, AK 99748; Telephone: (907) 534-2243; Fax: (907) 534-2264; and Legal Department, Tanana Chiefs Conference, Inc., 122 First Avenue, Suite 600, Fairbanks, AK 99701; Telephone: (907) 452-8251 Ext. 3177; Fax: (907) 459-3953.

Native Village of Kanatak, Jennifer Rubino, Tribal Administrator, 645 G St. #817, Anchorage, AK 99501; Telephone: (907) 336-7271; Fax: (907) 336-7272; E-mail: kanatak@acsalaska.net.

Native Village of Karluk, Tribal President and Joyce E. Jones, P.O. Box 22, Karluk, AK 99608; Telephone: (907) 241-2218; Fax: (907) 241-2208.

Organized Village of Kasaan, Richard J. Peterson, President/ICWA, P.O. Box 26, Kasaan, Ketchikan, AK 99950-0340; Telephone: (907) 542-2230; Fax: (907) 542-3006; E-mail: richard@kasaan.org.

Kashunamiut Tribe (see Chevak).

Kasigluk Traditional Elders Council (formerly the Native Village of Kasigluk), Nora O. Brink, Administrator, P.O. Box 19, Kasigluk, AK 99609; Telephone: (907) 477-6406; Fax: (907) 477-6212.

Kenaitze Indian Tribe, Victoria Segura, ICWA Director, 255 N. Ames, Kenai, AK 99611; Telephone: (907) 283-6693; Fax: (907) 283-7088; E-mail: vsegura@kenaitze.org.

Ketchikan Indian Corporation, Esperanza Redelfs, LCSW, Clinical Director, and Lynette R. Young, Family Specialist, 2960 Tongass Avenue, Ketchikan, AK 99901; Telephone: (907) 228-4917; Toll Free: 1-800-252-5158; Fax: (907) 228-4920; E-mail: lyoung@kictribe.org; and eredelfs@kictribe.org.

Native Village of Kiana, Micheline Curtis, ICWA/Enrollment Coordinator, P.O. Box 69, Kiana, AK 99749-0069; Telephone: (907) 475-2226 Ext. 14; Fax: (907) 475-2266; E-mail: mcurtis@katyaaq.org.

King Cove (see Agdaagux).

King Island Native Community, Jennifer Alvanna, Tribal Family Coordinator, P.O. Box 948, Nome, AK 99762; Telephone: (907) 443-4394; Fax: (907) 443-4457; E-mail: icwa.ki@kawerak.org.

King Salmon Tribe, Ruth N. Munsen, Program Director/ICWA, P.O. Box 68, King Salmon, AK 99613; Telephone: (907) 246-3447; Fax: (907) 246-3449; E-mail windsong1@starband.net.

Native Village of Kipnuk, Jimmy Paul, Tribal Administrator, P.O. Box 0057, Kipnuk, AK 99614-0057; Telephone: (907) 896-5515; Fax: (907) 896-5240; E-mail: kipnuktraditionalcouncil@starband.net; and Association of Village Council Presidents, ICWA Counsel, P.O. Box 219, Bethel, AK 99559; Telephone: (907) 543-7366; Fax: (907) 543-5759.

Native Village of Kivalina, Colleen E. Swan, Tribal Administrator, P.O. Box 50051, Kivalina, AK 99750; Telephone: (907) 645-2153; Fax: (907) 645-2193 or 2250; E-mail: colleen.swan@kivaliniq.org.

Klawock Cooperative Association, Henrietta Kato and Cindy Mills, Tribal Family & Youth Services, Central Council Tlingit and Haida Indian Tribes of Alaska, Box 173, Klawock, AK 99925; Telephone: (907) 755-2326; Fax: (907) 755-2647.

Kluckwan (see Chilkat Indian Village).

Native Village of Kluti-Kaah (Copper Center), Gay Wellman, Family Service Manager/ICWA Specialist, Copper River Native Association, P.O. Box H, Copper Center, AK 99573; Telephone: (907) 822-8825; Fax: (907) 822-8804; E-mail: gay@crnative.org.

Knik Tribe, Christina Flowers, ICWA Coordinator, P.O. Box 871565, Wasilla, AK 99687-1565; Telephone: (907) 373-7937; Fax: (907) 373-2161; E-mail: cflowers@kniktribalcouncil.org.

Native Village of Kobuk, Agnes Bernhardt, Tribal Administrator, P.O. Box 51039, Kobuk, AK 99751-0039; Telephone: (907) 948-2203; Fax: (907) 948-2125.

Kodiak Tribal Council (see Sun'aq Tribe of Kodiak, formerly Shoonaq Tribe).

Kokhanok Village, John Nelson, President, P.O. Box 1007, Kokhanok, AK 99606; Telephone: (907) 282-2202; Fax: (907) 282-2264; and Crystal Nixon, Children's Services Program Manager, Bristol Bay Native Association, P.O. Box 310, 1500 Kanakanak Road, Dillingham, AK 99559; Telephone: (907) 842-4139; Fax: (907) 842-4106; E-mail: cnixon@bbna.com.

Native Village of Kongiganak, Janet Otto, ICWA/CFSS, P.O. Box 5092, Kongiganak, AK 99559; Telephone: (907) 557-5311; Fax: (907) 557-5348; E-mail: jottoI@avcp.org; and Association of Village Council Presidents, ICWA Counsel, P.O. Box 219, Bethel, AK 99559; Telephone: (907) 543-7366; Fax: (907) 543-5759.

Village of Kotlik, Martina Jack, ICWA Case Worker, P.O. Box 20210, Kotlik, AK 99620; Telephone: (907) 899-4326; Fax: (907) 899-4790; E-mail: mjack@avcp.org; and Association of Village Council Presidents, ICWA Counsel, P.O. Box 219, Bethel, AK 99559; Telephone: (907) 543-7366; Fax: (907) 543-5759.

Native Village of Kotzebue, Ruth Nanouk, Human/Family Services Director, or Nicole Cravalho, Tribal Family Specialist II, P.O. Box 296, Kotzebue, AK 99752-0296; Telephone: (907) 442-3467 or 5321; Toll Free: 1 (800) 442-3467; Fax: (907) 442-4013 or 2162; E-mail: ruth.nanouk@qira.org; E-mail: nicole.cravahho@qira.org.

Native Village of Koyuk, Leo M. Charles Sr., Tribal Family Coordinator, P.O. Box 53030, Koyuk, AK 99753; Telephone: (907) 963-2215; Fax: (907) 963-2300; E-mail: leo@kawerak.org

Koyukuk Native Village, Percy Lolnitz, Sr., First Chief, P.O. Box 109, Koyukuk, AK 99754; Telephone: (907) 927-2222; Fax: (907) 927-2220; and Legal Department, Tanana Chiefs Conference, Inc., 122 First Avenue, Suite 600, Fairbanks, AK 99701; Telephone: (907) 452-8251 Ext. 3177; Fax: (907) 459-3953.

Organized Village of Kwethluk, Chariton A. Epchook, ICWA Coordinator, P.O. Box 130, Kwethluk, AK 99621; Telephone: (907) 757-6043; Fax: (907) 757-6321.

Native Village of Kwigillingok, Andrew Beaver, ICWA Program Director, P.O. Box 49, Kwigillingok, AK 99622; Telephone: (907) 588-8705; Fax: (907) 588-8429.

Native Village of Kwinhagak, (aka Quinhagak), Fannie Hernandez, Health & Human Service Director, P.O. Box 158, Quinhagak, AK 99655-0149; Telephone: (907) 556-8167 Ext. 410; Fax: (907) 556-8521; E-mail: fhernandez.nvk@gmail.com.

L

Native Village of Larsen Bay, Marilyn Arneson, Executive Assistant, P.O. Box 50, Larsen Bay, AK 99624; Telephone: (907) 847-2207; Fax: (907) 847-2307; E-mail: marneson@starband.net.

Lesnoi Village (aka Woody Island), Maggie Rocheleau, Village Administrator, 3248 Mill Bay Road, Kodiak, AK 99615; Telephone: (907) 486-2821; Fax: (907) 486-2738; E-mail: village@alaska.com.

Levelock Village, Jennie Apokedak, Tribal Administrator, P.O. Box 70, Levelock, AK 99625; Telephone: (907) 287-3030; Fax: (907) 287-3032; E-mail: levelock@starband.net; and Children's Services Program Manager, Bristol Bay Native Association, P.O. Box 310, 1500 Kanakanak Road, Dillingham, AK 99576; Telephone: (907) 842-4139; Fax: (907) 842-4106; E-mail: cnixon@bbna.com.

Lime Village, Anna M. Bobby, Administrator, ICWA Program, P.O. Box LVD, McGrath, AK 99627; Telephone: (907) 526-5236; Fax: (907) 526-5235.

Louden (see Galena).

M

Manley Hot Springs Village, Sabrenia Jervsjo, Tribal Family Youth Specialist, P.O. Box 105, Manley Hot Springs, AK 99756; Telephone: (907) 672-3180; Fax: (907) 672-3200; E-mail: sabrenia.jervsjo@tananachiefs.org; and Legal Department, Tanana Chiefs Conference, Inc., 122 First Avenue, Suite 600, Fairbanks, AK 99701; Telephone: (907) 452-8251 Ext. 3177; Fax: (907) 459-3953.

Manokotak Village, Mike Minista, Tribal President, Ariana Tikiun, Tribal Administrator, P.O. Box 169, Manokotak, AK 99628; Telephone: (907) 289-2067; Fax: (907) 289-1235; and Children's Services Program Manager, Bristol Bay Native Association, P.O. Box 310, 1500 Kanakanak Road, Dillingham, AK 99576; Telephone: (907) 842-4139; Fax: (907) 842-4106; E-mail: cnixon@bbna.com.

Native Village of Marshall (aka Fortuna Ledge), Frances Evan, ICWA/Social Services, Box 110, Marshall, AK 99585; Telephone: (907) 679-6302 or 6128; Fax: (907) 679-6187.

Native Village of Mary's Igloo, Dolly Kugzruk-Okleasik, Tribal Family Coordinator, P.O. Box 629, Teller, AK 99778; Telephone: (907) 642-2185; Fax: (907) 642-3000.

McGrath Native Village, Legal Department, Tanana Chiefs Conference, Inc., 122 First Avenue, Suite 600, Fairbanks, AK 99701; Telephone: (907) 452-8251 Ext. 3177; Fax: (907) 459-3953.

Native Village of Mekoryuk, Lillian Shavings, ICWA Coordinator, P.O. Box 66, Mekoryuk, AK 99630; Telephone: (907) 827-8827; Fax: (907) 827-8170 or 8133.

Mentasta Traditional Council, Shawn Sanford, Tribal Administrator, P.O. Box 6019, Mentasta Lake, AK 99780; Telephone: (907) 291-2328 or 2319; Fax: (907) 291-2305.

Metlakatla Indian Community, Annette Island Reserve, Karen Blandov-Thompson, Social Services Director, P.O. Box 8, Metlakatla, AK 99926; Telephone: (907) 886-6911 or 6914; Fax: (907) 886-6913.

Native Village of Minto, Lou Ann Williams, Tribal Family and Youth Specialist, P.O. Box 26, Minto, AK 99758; Telephone: (907) 798-7913; Fax: (907) 798-7627; and Legal Department, Tanana Chiefs Conference, Inc., 122 First Avenue, Suite 600, Fairbanks, AK 99701; Telephone: (907) 452-8251 Ext. 3177; Fax: (907) 459-3953.

Mountain Village (see Asa'carsarmiut Tribe).

N

Naknek Native Village, Linda Patterson, ICWA Worker, P.O. Box 106, Naknek, AK 99633; Telephone: (907) 246-4210; Fax: (907) 246-3563.

Native Village of Nanwalek (aka English Bay), Wally Kvasnikoff, First Chief, P.O. Box 8028, Nanwalek, AK 99603-6021; Telephone: (907) 281-2274; Fax: (907) 281-2252.

Native Village of Napaimute, Marcie Sherer, President, 7920 Evander Dr., Anchorge, AK 99518; Telephone: (907) 344-5245; Fax: (907) 543-2892; E-mail: msherer@cookinlethousing.org; and Association of Village Council Presidents, ICWA Counsel, P.O. Box 219, Bethel, AK 99559; Telephone: (907) 543-7366; Fax: (907) 543-5759.

Native Village of Napakiak, Josephine Paul, ICWA Specialist, P.O. Box 34069, Napakiak, AK 99634; Telephone: (907) 589-2815; Fax: (907) 589-2814; and Association of Village Council Presidents, ICWA Counsel, P.O. Box 219, Bethel, AK 99559; Telephone: (907) 543-7366; Fax: (907) 543-5759.

Native Village of Napaskiak, Nora Horn, ICWA Advocate, P.O. Box 6009, Napaskiak, AK 99559; Telephone: (907) 737-7821; Fax: (907) 737-7039.

Native Village of Nelson Lagoon, Justine Gundersen, Administrator, P.O. Box 13, Nelson Lagoon, AK 99571; Telephone: (907) 989-2204; Fax: (907) 989-2233; and Grace Smith, Tribal Representative, Aleutian/Pribilof Islands Association, Inc., 201 E. 3rd Avenue, Anchorage, Alaska 99501; Telephone: (907) 276-2700 or 222-4236; Fax: (907) 279-4351; E-mail: graces@apiai.org.

Nenana Native Association, Nita M. Marks, Youth & Family Services Director, P.O. Box 369, Nenana, AK 99760; Telephone: (907) 832-5461 Ext. 225; Fax: (907) 832-5447; and Legal Department, Tanana Chiefs Conference, Inc., 122 First Avenue, Suite 600, Fairbanks, AK 99701; Telephone: (907) 452-8251 Ext. 3177; Fax: (907) 459-3953.

New Koliganek Village Council (formerly Koliganek Village), Sally Larson, Tribal Children Service Worker, P.O. Box 5026, Koliganek AK 99576; Telephone: (907) 596-3425; Fax: (907) 596-3461; and Children's Services Program Manager, Bristol Bay Native Association, P.O. Box 310, 1500 Kanakanak Road, Dillingham, AK 99559; Telephone: (907) 842-4139; Fax: (907) 842-4106; E-mail: cnixon@bbna.com.

New Stuyahok Village, Wassillie Andrew, Village Administrator, P.O. Box 49, New Stuyahok, AK 99636; Telephone: (907) 693-3173; Fax: (907) 693-3179; E-mail: knwvc@starband.net.

Newhalen Village, Joanne Wassillie, Administrator, P.O. Box 207, Newhalen, AK 99606-0207; Telephone: (907) 571-1410/1317; Fax: (907) 571-1537; E-mail: newhalentribal@starband.net.

Newtok Village, Tom John, Court Clerk, P.O. Box 5545, Newtok, AK 99559-5545; Telephone: (907) 237-2314 or 2246; Fax: (907) 237-2428 or 2350.

Native Village of Nightmute, Administrative Executive Director, and Tribal President, P.O. Box 90021, Nightmute, AK 99690; Telephone: (907) 647-6212; Fax: (907) 647-6112.

Nikolai Village, Peter A. Tony, Tribal Family Youth Specialist, P.O. Box 9105, Nikolai, AK 99691; Telephone: (907) 293-2311; Fax: (907) 293-2481; and Legal Department, Tanana Chiefs Conference, Inc., 122 First Avenue, Suite 600, Fairbanks, AK 99701; Telephone: (907) 452-8251 Ext. 3177; Fax: (907) 459-3953.

Native Village of Nikolski, Grace Smith, Family Programs Coordinator, Aleutian/Pribilof Islands Association, 201 E. 3rd Avenue, Anchorage, AK 99501; Telephone: (907) 276-2700; Fax: (907) 279-4351; E-mail: graces@apiai.org.

Ninilchik Village, Michelle Steik, ICWA/CCA Manager, P.O. Box 39444, Ninilchik, AK 99639; Telephone: (907) 567-3313; Fax: (907) 567-3354; E-mail: msteik@ninilchiktribe-nsn.gov.

Native Village of Noatak, Herbert Walton, Sr., Administrator, ICWA Program, P.O. Box 89, Noatak, AK 99761-0089; Telephone: (907) 485-2173; Fax: (907) 485-2137; E-mail: herbert.walton@nautaaq.org.

Nome Eskimo Community, Belinda Olanna, Social Service Director/ICWA, P.O. Box 1090, Nome, AK 99762-1090; Telephone: (907) 443-2246 or 9104; Fax: (907) 443-3539 or 9140; E-mail: bolanna@gci.net.

Nondalton Village, Jack Hobson, Sr., President, P.O. Box 49, Nondalton, AK 99640-0049; Telephone: (907) 294-2220; Fax: (907) 294-2234; E-mail: nondaltontribe@starband.net.

Noorvik Native Community, Nellie Ballot, ICWA Coordinator, P.O. Box 131, Noorvik, AK 99763; Telephone: (907) 636-2258; Fax: (907) 636-2268; E-mail: nballot@nuurvik.org.

Northway Village, Crystalena Sam, ICWA Coordinator, P.O. Box 516, Northway, AK 99764; Telephone: (907) 778-2311; Fax: (907) 778-2220.

Native Village of Nuiqsut (aka Nooiksut), Tribal Administrator, P.O. Box 169, Nuiqsut, AK, 99789; Telephone: (907) 480-3010; Fax: (907) 480-3009; and Margie Smith, Acting Social Services Director/ICWA Program, and Sharon Thompson, Coordinator, Arctic Slope Native Association, Social Services, 1949 Gillam Way, Suite 210, Fairbanks, AK 99701; Telephone: (907) 456-1438; Toll Free: 1-877-478-4292; Fax: (907) 456-3941; E-mail: Sharon.thompson@arcticslope.org.

Nulato Village, Gloria Patsy, Director of Human Services, P.O. Box 65049, Nulato, AK 99765; Telephone: (907) 898-2329; Fax: (907) 898-2207; E-mail: nulatotribe@mosquitonet.com; and Legal Department, Tanana Chiefs Conference, Inc., 122 First Avenue, Suite 600, Fairbanks, AK 99701; Telephone: (907) 452-8251 Ext. 3177; Fax: (907) 459-3953.

Nunakauyarmiut Tribe (formerly the Native Village of Toksook Bay), Jolene John, Tribal Administrator, P.O. Box 37048; Toksook Bay, AK 99637; Telephone: (907) 427-7114 or 7615; Fax: (907) 427-7714.

Nunam Iqua (see Sheldon's Point).

Native Village of Nunapitchuk, Alexandria Tobeluk, Community Family Service Specialist, P. O. Box 104, Nunapitchuk, AK 99641-0130; Telephone: (907) 527-5731; Fax: (907) 527-5732.

O

Village of Ohogamiut, Nick P. Andrew, Jr., Tribal Administrator, P.O. Box 49, Marshall, AK 99585; Telephone: (907) 679-6517 or 6598; Fax: (907) 679-6516; E-mail: nandrew@gci.net.

Village of Old Harbor, Dorothy S. Taylor, BSW, ICWA Social Worker, P.O. Box 62, Old Harbor, AK 99643-0062; Telephone: (907) 286-2315; Fax: (907) 286-2277.

Orutsararmuit Native Village (aka Bethel), Margaret Chase, Social Services Director, P.O. Box 927, Bethel, AK 99559; Telephone: (907) 543-2608; Fax: (907) 543-0520; E-mail: mchase@nativecouncil.org.

Oscarville Traditional Village, Alexandria Henry Administrator, P.O. Box 6129, Napaskiak, AK 99559; Telephone: (907) 737-7099; Fax: (907) 737-7428; E-mail: ahenry@avcp.org; and Association of Village Council Presidents, ICWA Counsel, P.O. Box 219, Bethel, AK 99559; Telephone: (907) 543-7366; Fax: (907) 543-5759.

Native Village of Ouzinkie, Sharon Boskofsky, ICWA Program, and Angeline Campfield and Paul Panamarioff, Administrator, P.O. Box 130, Ouzinkie, AK 99644-0130; Telephone: (907) 680-2259 or 2359; Fax: (907) 680-2214; E-mail: ouzicwa@starband.net.

P

Native Village of Paimiut, Agatha A. Napoleon, Tribal Clerk, P.O. Box 209, Hooper Bay, AK 99604; Telephone: (907) 758-4002; Fax: (907) 758-4024.

Pauloff Harbor Village, Grace Smith, Tribal Representative, Aleutian/Pribilof Islands Association, 201 E. 3rd Avenue, Anchorage, AK 99501; Telephone: (907) 276-2700 or 222-4236; Fax: (907) 279-4351; E-mail: graces@apiai.org.

Pedro Bay Village, Kevin Jensen, Tribal Administration Support Specialist, P.O. Box 47020, Pedro Bay, AK 99647-7020; Telephone: (907) 850-2225; Fax: (907) 850-2221; E-mail: kbjensen@pedrobay.com.

Native Village of Perryville, Bernice O'Domin, Tribal Children's Service Worker/ICWA Program, P.O. Box 89, Perryville, AK 99648-0089; Telephone: (907) 853-2242; Fax: (907) 853-2229; and Children's Services Program Manager, Bristol Bay Native Association, P.O. Box 310, 1500 Kanakanak Road, Dillingham, AK 99576; Telephone: (907) 842-4139; Fax: (907) 842-4106; E-mail: cnixon@bbna.com.

Petersburg Indian Association, Pamela Lopez, Tribal & Family Support Worker, P.O. Box 1418, Petersburg, AK 99833; Telephone: (907) 772-3636; Fax: (907) 772-3637; E-mail: piaicwa@gci.net.

Native Village of Pilot Point, Tribal President, P.O. Box 449, Pilot Point, AK 99649; Telephone: (907) 797-2208; Fax: (907) 797-2258.

Pilot Station Traditional Village, Olga Xavier, ICWA Worker, P.O. Box 5119, Pilot Station, AK 99650-5119; Telephone: (907) 549-3550; Fax (907) 549-3551; and Association of Village Council Presidents, ICWA Counsel, P.O. Box 219, Bethel, AK 99559; Telephone: (907) 543-7366; Fax: (907) 543-5759.

Native Village of Pitka's Point, Ruth Riley, President, Sandra Drake, Tribal Administrator, Phillip Yupanik, Sr., ICWA Director, P.O. Box 127, St. Mary's, AK 99658; Telephone: (907) 438-2833, 2551 or 2564; Fax: (907) 438-2569 or 2552.

Platinum Traditional Village, Lou Adams, Tribal Administrator or Tribal President, ICWA Program, P.O. Box 8, Platinum, AK 99651; Telephone: (907) 979-8610; Fax: (907) 979-8178.

Native Village of Point Hope, Daisy Sage, Family Caseworker, P.O. Box 109, Point Hope, AK 99766; Telephone: (907) 368-3122; Fax: (907) 368-2332.

Native Village of Point Lay, Box 59031, Pt. Lay, AK 99757; Telephone: (907) 833-2575; and Margie Smith, Acting Social Services Director/ICWA Program, and Sharon Thompson, Coordinator, Arctic Slope Native Association, Social Services, 1949 Gillam Way, Suite 210, Fairbanks, AK 99701; Telephone: (907) 456-1438; Toll Free: 1-877-478-4292; Fax: (907) 456-3941; E-mail: Sharon.thompson@arcticslope.org.

Native Village of Port Graham, Tribal President, and Tribal Administrator, P.O. Box 5510, Port Graham, AK 99603; Telephone: (907) 284-2227; Fax: (907) 284-2222; E-mail: pnorman@starband.net.

Native Village of Port Heiden, Gerda Kosbruk, Administrator, P.O. Box 49007, Port Heiden, AK 99549; Telephone: (907) 837-2296; Fax: (907) 837-2297; E-mail: gkosbruk@starband.net.

Native Village of Port Lions, Jessica Ursin, Tribal Family Service Coordinator, ICWA, P.O. Box 69/2006 Airport Road, Port Lions, AK 99550-0069; Telephone: (907) 454-2234; Fax: (907) 454-2434; E-mail: nvopl@starband.net.

Portage Creek Village (aka Ohgensakale), Tribal President, P.O. Box PCA, Portage Creek, AK 99576; Telephone: (907) 842-2564; Fax: (907) 842-2564; and Children's Services Program Manager, Bristol Bay Native Association, P.O. Box 310, 1500 Kanakanak Road, Dillingham, AK 99576; Telephone: (907) 842-4139; Fax: (907) 842-4106; E-mail: cnixon@bbna.com.

Q

Qagan Tayagungin Tribe of Sand Point Village, Dorothy McCallum, President, Box 447, Sand Point, AK 99661; Telephone: (907) 383-5616; Fax: (907) 383-5814; E-mail: qttadmin@arctic.net; and Grace Smith, Tribal Representative, Aleutian/Pribilof Islands Association, 201 E. 3rd Avenue, Anchorage, AK 99501; Telephone: (907) 276-27000 or 222-4236; Fax: (907) 279-4351; E-mail: graces@apiai.org.

Qawalangin Tribe of Unalaska, Margaret Lekanoff, President, and Kathy Dirks, Family Programs Case Worker, P.O. Box 334 Unalaska, AK 99685; Telephone: (907) 581-2920 or 6574; Fax: (907) 581-3644; E-mail: qtuunga@arctic.net; and Grace Smith, Tribal Representative, Aleutian/Pribilof Islands Association, 201 E. 3rd Avenue, Anchorage, AK 99501; Telephone: (907) 276-2700 or 222-4236; Fax: (907) 279-4351; E-mail: graces@apiai.org.

Quinhagak (see Kwinhagak).

Qissunamiut Tribe (see Chevak).

R

Rampart Village, Legal Department, Tanana Chiefs Conference, Inc., 122 First Avenue, Suite 600, Fairbanks, AK 99701; Telephone: (907) 452-8251 Ext. 3177; Fax: (907) 459-3953.

Village of Red Devil, Theodore E. Gordon, Sr., Tribal Administrator, P.O. Box 27, Red Devil, AK 99656; Telephone: (907) 447-3223; Fax: (907) 447-3224; and Association of Village Council Presidents, ICWA Counsel, P.O. Box 219, Bethel, AK 99559; Telephone: (907) 543-7366; Fax: (907) 543-5759.

Native Village of Ruby, Mary Ann McCarty, Tribal Family & Youth Specialist, P.O. Box 117, Ruby, AK 99768; Telephone: (907) 468-4400; Fax: (907) 468-4500; and Legal Department, Tanana Chiefs Conference, Inc., 122 First Avenue, Suite 600, Fairbanks, AK 99701; Telephone: (907) 452-8251 Ext. 3177; Fax: (907) 459-3953.

Russian Mission (see Iqurmuit Traditional Council).

S

Saint George Island, Julie Meredith, Tribal Administrator, P.O. Box 940, St. George Island, AK 99591; Telephone: (907) 859-2205; Fax: (907) 859-2242; E-mail: stgcouncil@starband.net; and Grace Smith, Tribal Representative, Aleutian/Pribilof Islands Association, 201 E. 3rd Avenue, Anchorage, AK 99501; Telephone: (907) 276-2700 or 222-4236; Fax: (907) 279-4351; E-mail: graces@apiai.org.

Native Village of Saint Michael, Diane Thompson, Tribal Family Coordinator, P.O. Box 59050, St. Michael, AK 99659; Telephone: (907) 923-2546; Fax: (907) 923-2474; E-mail: smk.icw@kawerak.org.

Saint Paul Island, Grace Smith, Tribal Representative, Aleutian/Pribilof Islands Association, 201 E. 3rd Avenue, Anchorage, AK 99501; Telephone: (907) 276-2700 or 222-4236; Fax: (907) 279-4351; E-mail: graces@apiai.org; and Maxim Buterin, Family Programs Case Worker, P.O. Box 31, St. Paul, AK 99660; Telephone: (907) 546-3224.

Village of Salamatoff, Jennifer Showalter, MSW, Human Services Director, Kenaitze Indian Tribe, 110 N. Willow Street, Kenai, AK 99611; Telephone: (907) 283-6693; Fax: (907) 283-6470.

Sand Point (see Qagan Tayagungin Tribe of Sand Point Village).

Native Village of Savoonga, Mary Ann A. Seppilu, ICWA Coordinator, P.O. Box 34, Savoonga, AK 99769; Telephone: (907) 984-6211; Fax: (907) 984-6027.

Organized Village of Saxman, Janelle Hamilton, Family Caseworker/Social Worker, Route 2, Box 2-Saxman, Ketchikan, AK 99901; Telephone: (907) 225-2518; Fax: (907) 247-2912; E-mail: iragovt@kpunet.net and jreeve@ccthita.org.

Native Village of Scammon Bay, Joan Sundown, Community Family Service Specialist (ICWA), P.O. Box 110, Scammon Bay, AK 99662; Telephone: (907) 558-5078; Fax: (907) 558-5134; and Association of Village Council Presidents, ICWA Counsel, P.O. Box 219, Bethel, AK 99559; Telephone: (907) 543-7366; Fax: (907) 543-5759.

Native Village of Selawik, Myrna M. Ticket, ICWA Coordinator, P.O. Box 59, Selawik, AK 99770-0059; Telephone: (907) 484-2165 Ext. 14; Fax: (907) 484-2226; E-mail: myrna.ticket@akuligaq.org.

Seldovia Village Tribe, Paula Elvsaas, ICWA Worker, Drawer L, Seldovia, AK 99663; Telephone: (907) 234-7898 Ext. 241; Fax: (907) 234-7865; E-mail: pelvsaas@svt.org.

Shageluk Native Village, Rebecca Wulf, Tribal Administrator, or Minnie Kanter, TFYS, P.O. Box 109, Shageluk, AK 99665; Telephone: (907) 473-8239 or 8229; Fax: (907) 473-8295 or 8275; E-mail: Rebecca.wulf@tananachiefs.org; and Legal Department, Tanana Chiefs Conference, Inc., 122 First Avenue, Suite 600, Fairbanks, AK 99701; Telephone: (907) 452-8251 Ext. 3177; Fax: (907) 459-3953.

Native Village of Shaktoolik, Tribal President and Tribal Administrator, P.O. Box 100, Shaktoolik, AK 99771; Telephone: (907) 955-2444; Fax: (907) 955-2443.

Native Village of Sheldon's Point (aka Nunam Iqua), Edward Adams, Sr. President and ICWA/Family Service Specialist, P.O. Box 9, Sheldon Point, AK 99666; Telephone: (907) 498-4184; Fax: (907) 498-4185; and Association of Village Council Presidents, ICWA Counsel, P.O. Box 219, Bethel, AK 99559; Telephone: (907) 543-7366; Fax: (907) 543-5759.

Native Village of Shishmaref, Tribal President and Tribal Administrator, P.O. Box 72110, Shishmaref, AK 99772; Telephone: (907) 649-3078; Fax: (907) 649-2278; E-mail: karla@kawerak.org.

Native Village of Shungnak, Kathleen Custer, ICWA Coordinator, P.O. Box 64, Shungnak, AK 99773; Telephone: (907) 437-2163; Fax: (907) 437-2183; E-mail: rsun@issingnak.org.

Sitka Tribe of Alaska, Shannon Boussom, Attorney, 456 Katlian St., Sitka, AK 99835; Telephone: (907) 747-3207; Fax: (907) 747-4915; E-mail: sboussom@sitkatribe.org.

Skagway Village, Buster E. Shepherd, Tribal Liaison, P.O. Box 1157, Skagway, AK 99840; Telephone: (907) 983-4068; Fax: (907) 983-3068; E-mail: bshepherd@skagwaytraditional.org; and Indian Child Welfare Coordinator, Central Council Tlingit and Haida Indian Tribes of Alaska, 320 W. Willoughby, Suite 300, Juneau, AK 99801; Telephone: (907) 463-7148; Fax: (907) 463-7343; E-mail: mdoyle@ccthita.org.

Village of Sleetmute, Pete Mellick, Tribal Administrator, P.O. Box 109, Sleetmute, AK 99668; Telephone: (907) 449-4225; Fax: (907) 449-4203; E-mail: stcadmin@starband.net.

Village of Solomon, Tribal President and Tribal Administrator, P.O. Box 2053, Nome, AK 99762; Telephone: (907) 443-4985; Fax: (907) 443-5189.

South Naknek Village, Lorianne Rawson, Tribal Village Administrator, P.O. Box 70029, South Naknek, AK 99670; Telephone: (907) 246-8614; Fax: (907) 246-8613; E-mail: southnaknek@starband.net; and Children's Services Program Manager, Bristol Bay Native Association, P.O. Box 310, 1500 Kanakanak Road, Dillingham, AK 99576; Telephone: (907) 842-4139; Fax: (907) 842-4106; E-mail: cnixon@bbna.com.

St. Mary's (see Algaaciq).

Stebbins Community Association, Becky Odinzoff, Tribal Family Coordinator, P.O. Box 71002, Stebbins, AK 99761; Telephone: (907) 934-2334; Fax: (907) 934-2675; E-mail: icwa.wbb@kawerak.org.

Native Village of Stevens, Cheryl Mayo Kriska, ICWA Worker, P.O. Box 74016, Stevens Village, AK 99774; Telephone: (907) 478-7228; Fax: (907) 478-7229; and Legal Department, Tanana Chiefs Conference, Inc., 122 First Avenue, Suite 600, Fairbanks, AK 99701; Telephone: (907) 452-8251 Ext. 3177; Fax: (907) 459-3953.

Village of Stony River, Mary Willis, Tribal President and Tribal Administrator; P.O. Box SRV, Birch Road, Stony River, AK 99557; Telephone: (907) 537-3270 or 3253; Fax: (907) 537-3254; and Association of Village Council Presidents, ICWA Counsel, P.O. Box 219, Bethel, AK 99559; Telephone: (907) 543-7366; Fax: (907) 543-5759.

Sun'aq Tribe of Kodiak (formerly the Shoonaq' Tribe of Kodiak), Mr. Chris Polasky, Social Services Coordinator, 312 W. Marine Way, Kodiak, AK 99615; Telephone: (907) 486-4449; Fax: (907) 486-3361; E-mail: cpolasky@ak.net.

T

Takotna Village, Janice Newton, Tribal Administrator/ICWA Worker, P.O. Box 7529, Takotna, AK 99675; Telephone: (907) 298-2212; Fax: (907) 298-2314; and Legal Department, Tanana Chiefs Conference, Inc., 122 First Avenue, Suite 600, Fairbanks, AK 99701; Telephone: (907) 452-8251 Ext. 3177; Fax: (907) 459-3953.

Native Village of Tanacross, Debbie Thomas, and Trixie Isaac, ICWA Program, P.O. Box 76009, Tanacross, AK 99776; Telephone: (907) 883-5024; Fax: (907) 883-4497.

Native Village of Tanana, Faith M. Peters, Social Worker, P.O. Box 130, Tanana, AK 99777; Telephone: (907) 366-7154, 7160, or 7170; Fax: (907) 366-7269.

Native Village of Tatitlek, Tribal President and Tribal Administrator, P.O. Box 171, Tatitlek, AK 99677; Telephone: (907) 325-2313; Fax: (907) 325-2298.

Native Village of Tazlina, Marce Simeon, ICWA Coordinator, P.O. Box 87, Glennallen, AK 99588; Telephone: (907) 822-4375; Fax: (907) 822-5865; E-mail: marce@cvinternet.net.

Telida Village, Legal Department, Tanana Chiefs Conference, Inc., 122 First Avenue, Suite 600, Fairbanks, AK 99701; Telephone: (907) 452-8251 Ext. 3177; Fax: (907) 459-3953.

Native Village of Teller, Dolly Kugzruk-Okleasik, Tribal Family Coordinator, P.O. Box 629, Teller, AK 99778; Telephone: (907) 642-2185; Fax: (907) 642-3000; E-mail: icwa.tla@kawerak.org.

Native Village of Tetlin, Nettie J. Warbelow, Tribal Family Youth Specialist, Box 93 Tok, AK 99780; Telephone: (907) 883-2681; Fax: (907) 451-1717; E-mail: drnw@acsalaska.net; and Legal Department, Tanana Chiefs Conference, Inc., 122 First Avenue, Suite 600, Fairbanks, AK 99701; Telephone: (907) 452-8251 Ext. 3177; Fax: (907) 459-3953.

Tlingit & Haida Indian Tribes of Alaska (see Central Council Tlingit and Haida).

Traditional Village of Togiak, Shannon Johnson-Nanalook, Tribal ICWA Worker, P.O. Box 310, Togiak, AK 99678; Telephone: (907) 493-5431; Fax: (907) 493-5734.

Toksook Bay (see Nunakauyarmiut Tribe).

Tuluksak Native Community, Margaret Andrew, ICWA Coordinator, P.O. Box 95, Tuluksak, AK 99679-0095; Telephone: (907) 695-6902; Fax: (907) 695-6932.

Native Village of Tuntutuliak, Grace Andrew, ICWA Worker, P.O. Box 8086, Tuntutuliak, AK 99680; Telephone: (907) 256-2311; Fax: (907) 256-2080; and Association of Village Council Presidents, ICWA Counsel, P.O. Box 219, Bethel, AK 99559; Telephone: (907) 543-7366; Fax: (907) 543-5759.

Native Village of Tununak, George B. Hooper, Sr., Tribal Administrator/Chairman, and Edna Flynn, Community Family Specialist, P.O. Box 77, Tununak, AK 99681-0077; Telephone: (907) 652-6527 Ext. 6220; Fax: (907) 652-6011; E-mail: Tununak@starband.net; and Association of Village Council Presidents, ICWA Counsel, P.O. Box 219, Bethel, AK 99559; Telephone: (907) 543-7366; Fax: (907) 543-5759.

Twin Hills Village, P.O. Box TWA, Twin Hills, AK 99576; Telephone: (907) 525-4821; Fax: (907) 525-4822; and Children's Services Program Manager, Bristol Bay Native Association, P.O. Box 310, 1500 Kanakanak Road, Dillingham, AK 99576; Telephone: (907) 842-4139; Fax: (907) 842-4106; E-mail: cnixon@bbna.com.

The Native Village of Tyonek, Peter Merryman, Tribal President, P.O. Box 82009, Tyonek, AK 99682; Telephone: (907) 583-2201; Fax: (907) 583-2442; E-mail: peterm@tyonek.net.

U

Ugashik Village, Lucy Goode, Tribal Administrator, 206 E. Fireweed Lane, #204, Anchorage, AK 99503; Telephone: (907) 338-7611; Fax: (907) 338-7659; E-mail: ugashik@alaska.net; and Children's Services Program Manager, Bristol Bay Native Association, P.O. Box 310, 1500 Kanakanak Road, Dillingham, AK 99576; Telephone: (907) 842-4139; Fax: (907) 842-4106; E-mail: cnixon@bbna.com.

Umkumiute Native Village, Andronik Kashatok, Tribal Administrator, P.O. Box 90062, Nightmute, AK 99690; Telephone: (907) 647-6145; Fax: (907) 647-6146.

Native Village of Unalakleet, Albert Sarren, Tribal Family Coordinator, P.O. Box 357, Unalakleet, AK 99684; Telephone: (907) 624-3526; Fax: (907) 624-5104; E-mail: icwa.unk@kawerak.org.

Unalaska (see Qawalangin Tribe of Unalaska).

Native Village of Unga, Amy Foster, Administrator, P.O. Box 508, Sand Point, AK 99661; Telephone: (907) 383-2415; Fax: (907) 383-5553; E-mail: ungatribe@arctic.net; and Grace Smith, Tribal Representative, Aleutian/Pribilof Islands Association, Social Services, 201 E. 3rd Avenue, Anchorage, AK 99501; Telephone: (907) 276-2700 or 222-4236; Fax: (907) 279-4351; E-mail: graces@apiai.org.

Native Village of Upper Kalskag (see Kalskag).

V

Village of Venetie (see Native Village of Venetie Tribal Government).

Native Village of Venetie Tribal Government (Arctic Village and Village of Venetie), Tribal Administrator, P.O. Box 81080, Venetie, AK 99781; Telephone: (907) 849-8165 or 8378; Fax: (907) 849-8097; and Legal Department, Tanana Chiefs Conference, Inc., 122 First Avenue, Suite 600, Fairbanks, AK 99701; Telephone: (907) 452-8251 Ext. 3177; Fax: (907) 459-3953.

W

Village of Wainwright, June Childress, President, P.O. Box 143, Wainwright, AK 99782; Telephone: (907) 763-2535; Fax: (907) 763-2536; E-mail: junechildress@asna.ihs.gov; and Margie Smith, Acting Social Services Director/ICWA Program, and Sharon Thompson, Coordinator, Arctic Slope Native Association, Social Services, 1949 Gillam Way, Suite 210, Fairbanks, AK 99701; Telephone: (907) 456-1438; Toll Free: 1-877-478-4292; Fax: (907) 456-3941; E-mail: Sharon.thompson@arcticslope.org.

Native Village of Wales, Anna M. Oxereok, Tribal Family Coordinator, P.O. Box 549, Wales, AK 99783; Telephone: (907) 664-2185; Fax: (907) 664-3062 or 2200; E-mail: tc.waa@kawerak.org.

Native Village of White Mountain, James Fryer, Tribal Family Coordinator, P.O. Box 45, White Mountain, AK 99784; Telephone: (907) 638-2008; Fax: (907) 638-2009; E-mail: tfc.wmo@kawerak.org.

Woody Island (see Leisnoi Village).

Wrangell Cooperative Association, Wilma Stokes, President, P.O. Box 868, Wrangell, AK 99929; E-mail: walkerak@aptalaska.net; and Elizabeth Newman, Family Counselor II, P.O. Box 1198, Wrangell, AK 99929; Telephone: (907) 874-3481 or 3482; Fax: (907) 874-2918 or 2982; E-mail: bnewman@ccthita.org or walkerak@aptalaska.net.

Y

Yakutat Tlingit Tribe, Karen Ries, Family Service Director, P.O. Box 418, Yakutat, AK 99689; Telephone: (907) 784-3238 Ext. 231; Fax: (907) 784-3664.

Eastern Oklahoma Region

Jeanette Hanna, Regional Director, P.O. Box 8002, Muskogee, OK 74401; Telephone: (918) 781-4600; Fax (918) 781-4604.

A

Alabama—Quassarte Tribal Town, Tarpie Yargee, Chief, P.O. Box 187, Wetumka, OK 74883; Telephone: (405) 452-3987.

C

Cherokee Nation of Oklahoma, Chadwick Smith, Principal Chief, P.O. Box 948, Tahlequah, OK 74465; Telephone: (918) 456-0671.

The Chickasaw Nation, Bill Anoatubby, Governor, P.O. Box 1548, Ada, OK 74821; Telephone: (580) 436-2603.

Choctaw Nation of Oklahoma, Gregory E. Pyle, Chief, P.O. Drawer 1210, Durant, OK 74702-1210; Telephone: (580) 924-8280.

E

Eastern Shawnee Tribe of Oklahoma, Charles D. Enyart, Chief, P.O. Box 350, Seneca, MO 64865; Telephone: (918) 666-2435.

K

Kialegee Tribal Town, Gary Bucktrot, Town King, P.O. Box 332, Wetumka, OK 74883; Telephone: (918) 452-3262.

M

Miami Tribe of Oklahoma, Floyd E. Leonard, Chief, P.O. Box 1326, Miami, OK 74355; Telephone: (918) 542-1445.

Modoc Tribe of Oklahoma, Bill Gene Follis, Chief, 515 G Southeast, Miami, OK 74354; Telephone: (918) 542-1190.

The Muscogee (Creek) Nation, A. D. Ellis, Principal Chief, P.O. Box 580, Okmulgee, OK 74447; Telephone: (918) 756-8700; Fax: (918) 758-1434.

O

Osage Tribe, Jim Roan Gray, Principal Chief, P.O. Box 779, Pawhuska, OK 74056; Telephone: (918) 287-5432.

Ottawa Tribe of Oklahoma, Charles Todd, Chief, P.O. Box 110, Miami, OK 74355; Telephone: (918) 540-1536.

Peoria Tribe of Indians of Oklahoma, John P. Froman, Chief, P.O. Box 1527, Miami, OK 74355; Telephone: (918) 540-2535.

Quapaw Tribe of Oklahoma, John Berrey, Chairperson, P.O. Box 765, Quapaw, OK 74363; Telephone: (918) 542-1853.

Seminole Nation of Oklahoma, Enoch Kelly Haney, Principal Chief, P.O. Box 1498, Wewoka, OK 74884; Telephone: (405) 257-6287.

Seneca-Cayuga Tribe of Oklahoma, Paul Spicer, Principal Chief, P.O. Box 1283, Miami, OK 74355; Telephone: (918) 542-6609.

T

Thlopthlocco Tribal Town, George Scott, Town King, P.O. Box 188, Okemah, OK 74859; Telephone: (918) 623-2620.

U

United Keetoowah Band of Cherokee Indians, George Wickliffe, Chief, P.O. Box 746, Tahlequah, OK 74465; Telephone: (918) 431-1818.

W

Wyandotte Tribe of Oklahoma, Leaford Bearskin, Chief, P.O. Box 250, Wyandotte, OK 74370; Telephone: (918) 678-2297 or (918) 678-2298.

Eastern Region

Franklin Keel, Regional Director, 545 Marriott Drive, Suite 700, Nashville, TN 37214; Telephone: (615) 564-6700; Fax: (615) 564-6701.

Gloria York, Regional Social Worker, 545 Marriott Drive, Suite 700, Nashville, TN 37214; Telephone: (615) 564-6740; Fax: (615) 564-6547.

Catherine Webster, Program Assistant, 545 Marriott Drive, Suite 700, Nashville, TN 37214; Telephone: (615) 564-6742; Fax: (615) 564-6547.

A

Aroostook Band of Micmac Indians, Ms. Rosella Silliboy, ICWA Coordinator, 7 Northern Road, Presque Isle, Maine 04769; Telephone: (207) 764-1972; Fax: (207) 764-7667.

C

Catawba Indian Nation of South Carolina, Melissa Funderburk, Director, Social Services, P.O. Box 188, Catawba, South Carolina 29704; Telephone: (803) 366-4792; Fax: (803) 327-4853.

Cayuga Nation of New York, Anita Thompson, Child Welfare Worker, P.O. Box 11, Versailles, New York 14168; Telephone: (716) 337-4270; Fax: (716) 337-0268.

Chitimacha Tribe of Louisiana, Karen Matthews, Human Services Director, P.O. Box 661, Charenton, Louisiana 70523; Telephone: (337) 923-7000; Fax: (337) 923-2475.

Coushatta Tribe of Louisiana, Joan Fullilove, Social Services Director, P.O. Box 967, Elton, Louisiana 70532; Telephone: (337) 584-1435; Fax: (337) 584-1474.

E

Eastern Band of Cherokee Indians, Barbara Jones, Director, Family Support Services, P.O. Box 507, Cherokee, North Carolina 28719; Telephone: (828) 497-6092; Fax: (828) 497-3322.

H

Houlton Band of Maliseet Indians, Betsy Tannian, Director, ICWA Program, 13-2 Clover Court, Houlton, Maine 04730; Telephone: (207) 532-7260; Fax: (207) 532-7287.

J

Jena Band of Choctaw Indians, Mona Maxwell, Director, Social Services, P.O. Box 14, Jena, Louisiana 71342; Telephone: (318) 992-0136; Fax: (318) 992-6412.

M

Mashantucket Pequot Tribal Nation, Valerie Burgess, Child Protective Services, P.O. Box 3313, Mashantucket, Connecticut 06338; Telephone: (860) 396-2142; Fax: (860) 396-2144.

Miccosukee Tribe of Indians of Florida, Social Service Program, P.O. Box 440021, Miami, Florida 33144; Telephone: (305) 223-8380 Ext. 2267; Fax: (305) 223-1011.

Mississippi Band of Choctaw Indians, Maurice Calistro, Director, P.O. Box 6050, Choctaw, Mississippi 39350; Telephone: (601) 650-1741; Fax: (601) 656-8817.

Mohegan Indian Tribe, Irene Miller, APRN, Director, Family Services, 5 Crow Hill Road, Uncasville, Connecticut 06382; Telephone: (860) 862-6201; Fax: (860) 862-6324.

N

Narragansett Indian Tribe, Wenonah Harris, Director, Child Advocate, Tribal Child and Family Services, 4375-B. South County Trail, Charlestown, Rhode Island 02813; Telephone: (401) 491-9008; Fax: (401) 491-9044.

O

Oneida Indian Nation, Member Benefits, 577 Main Street, Oneida, New York 13421; Telephone: (315) 829-8335; Fax: (315) 829-8392.

Onondaga Nation of New York, Council of Chiefs, P.O. Box 85, Nedrow, New York 13120; Telephone: (315) 469-1875; Fax: (315) 492-4822.

P

Passamaquoddy Tribe of Maine—Indian Township Reservation, Jeannette Parker, Child Welfare Coordinator, P.O. Box 97, Princeton, Maine 04668; Telephone: (207) 796-5079; Fax: (207) 796-2218.

Passamaquoddy Tribe of Maine—Pleasant Point Reservation, Molly Newell, Child Welfare Director, P.O. Box 343, Perry, Maine 04667; Telephone: (207) 853-2600; Fax: (207) 853-2405.

Penobscot Indian Nation of Maine, Erlene Paul, Human Service Director, 9 Sarah's Spring Road, Indian Island, Maine 04468; Telephone: (207) 817-7492 Ext. 7492; Fax: (207) 827-2937.

Poarch Band of Creek Indians, Carolyn Rackard, ICWA, Social Worker, Department of Family Services, 5811 Jack Springs Road, Atmore, Alabama 36502; Telephone: (251) 368-9136 Ext. 2600; Fax: (251) 368-0828.

S

Saint Regis Band of Mohawk Indians, Rhonda Mitchell, ICWA Program Coordinator, 412 State, Route 37, Hogansburg, New York 13655; Telephone: (518) 358-4516; Fax: (518) 358-9258.

Seminole Tribe of Florida, Theodore Nelson, LCSW, Foster Care Systems Administrator, 3006 Josie Billie Avenue, Hollywood, Florida 33024; Telephone: (954) 965-1314; Fax: (954) 965-1304.

Seneca Nation of Indians, Attention: Lori Miller, Home Finder Adjudicator, Child and Family Services, P.O. Box 500, Salamanca, New York 14779; Telephone: (716) 945-5894 Ext. 3220; Fax: (716) 945-5889.

T

Tonawanda Band of Senecas, Council of Chiefs, 7027 Meadville Road, Basom, New York 14013; Telephone: (716) 542-4244; Fax: (716) 542-4244.

Tunica-Biloxi Indian Tribe of Louisiana, Jean Allen-Wilson, LCSW, Assistant Social Service Director, P.O. Box 1589, Marksville, Louisiana 71351; Telephone: (318) 253-5100; Fax: (318) 253-9791.

Tuscarora Nation of New York, Supervisor, Community Health Worker, 2015 Mount Hope Road, Lewistown, New York 14092; Telephone: (716) 297-0598; Fax: (716) 297-7046.

W

Wampanoag Tribe of Gay Head (Aquinnah), Bonnie Chalifoux, Director, Human Services, 20 Black Brook Road, Aquinnah, Massachusetts 02535; Telephone: (508) 645-9265 Ext. 159; Fax: (508) 645-2755.

Great Plains Region

Mr. William Benjamin, Regional Director, 115 4th Avenue, S.E., Aberdeen, SD 57401; Telephone: (605) 226-7351; Fax: (605) 226-7643.

Cindy Ross & Peggy Davis, Social Workers, 115 4th Avenue, S.E., Aberdeen, SD 57401; Telephone: (605) 226-7351; Fax: (605) 226-7643.

C

Cheyenne River Sioux Tribe, Diane Garreaux, ICWA Director, Cheyenne River Sioux Tribe, P.O. Box 747, Eagle Butte, SD 57625; Telephone: (605) 964-6460; Fax: (605) 964-6463.

Crow Creek Sioux Tribe, Dave Valandra, ICWA Director, Crow Creek Sioux Tribe, P.O. Box 50, Fort Thompson, SD 57339; Telephone: (605) 245-2322; Fax: (605) 245-2844.

F

Flandreau Santee Sioux Tribe, Guy Zephier, ICWA Administrator, Flandreau Santee Sioux Tribal Social Services, P.O. Box 283, Flandreau, SD 57028; Telephone: (605) 997-5055; Fax: (605) 997-5145.

L

Lower Brule Sioux Tribe, Greg Miller, ICWA Director, Lower Brule Sioux Tribe, P.O. Box 244, Lower Brule, SD 57548; Telephone: (605) 473-5584; Fax: (605) 473-9268.

O

Oglala Sioux Tribe, Marie Fox Belly, ICWA Administrator, Oglala Sioux Tribe-ONTRAC, P.O. Box 148, Pine Ridge, SD 57770; Telephone: (605) 867-5805; Fax: (605) 867-1893.

Omaha Tribe of Nebraska, Mary Webster, ICWA Director, Omaha Tribe of Nebraska, Child Protection Services, P.O. Box 429, Macy, NE 68039; Telephone: (402) 837-5261; Fax: (402) 837-5262.

P

Ponca Tribe of Nebraska, Rhonda Oestreich, Director, ICWA Program, Ponca Tribe of Nebraska Social Services 201 Miller Avenue, Norfolk, NE 68701; Telephone: (712) 347-6781; Fax: (712) 347-6792.

R

Rosebud Sioux Tribe, Shirley Big Eagle, ICWA Specialist, RST ICWA Program, P.O. Box 609, Mission, SD 57555; Telephone: (605) 856-5270; Fax: (605) 856-5168.

S

Santee Sioux Nation, Nellie Tuttle, ICWA Specialist, Santee Sioux Nation, Dakota Tiwahe Social Services Program, Route 2, Box 5191, Niobrara, NE 68760; Telephone: (402) 857-2342; Fax: (402) 857-2361.

Sisseton-Wahpeton Sioux Tribe, Evelyn Pilcher, ICWA Director, Sisseton-Wahpeton Sioux Tribe, P.O. Box 509, Agency Village, SD 57262; Telephone: (605) 698-3992; Fax: (605) 698-3999.

Spirit Lake (formerly Devils Lake) Sioux Tribe, Frank Myrick, ICWA Director, Spirit Lake Tribal Social Services, P.O. Box 356, Fort Totten, ND 58335; Telephone: (701) 766-4855; Fax: (701) 766-4273.

Standing Rock Sioux Tribe, Beverly Iron Shield, ICWA Specialist, Standing Rock Sioux Tribe, Child Welfare/Social Services, P.O. Box 640, Fort Yates, ND 58538; Telephone: (701) 854-3431; Fax: (701) 854-2119.

T

Three Affiliated Tribes, Jolyn Foote, ICWA Specialist, Three Affiliated Tribes, 404 Frontage Drive, New Town, ND 58763; Telephone: (701) 627-4781; Fax: (701) 627-5550.

Turtle Mountain Band of Chippewa Indians, Marilyn Poitra, ICWA Coordinator, Turtle Mountain Band of Chippewa Indians, Child Welfare and Family Services, P.O. Box 900, Belcourt, ND 58316; Telephone: (701) 477-5688; Fax: (701) 477-5797.

W

Winnebago Tribe of Nebraska, Doreen Miera-May, ICWA Specialist, Winnebago Tribe of Nebraska, ICWA Program, P.O. Box 771, Winnebago, NE 68071; Telephone: (402) 878-2469; Fax: (402) 878-2981.

Y

Yankton Sioux Tribe, Raymond Cournoyer, ICWA Director, Yankton Agency, P.O. Box 248, Marty, SD 57361; Telephone: (605) 384-3641.

Midwest Region

Terry Virden, Regional Director, One Federal Drive, Room 550, Fort Snelling, MN 55111-4007; Telephone: (612) 725-4502; Fax: (612) 713-4401.

Rosalie Clark, Regional Social Worker, One Federal Drive, Room 550, Fort Snelling, MN 55111-4007; Telephone: (612) 725-4571; Fax: (612) 713-4439.

B

Bad River Band of Lake Superior Chippewa Indians of Wisconsin, Catherine Blanchard, ICWA Coordinator, P.O. Box 55, Odanah, WI 54861; Telephone: (715) 682-7136.

Bay Mills Indian Community of Michigan, Cheryl Baragwanath, ICWA Worker, 12124 W. Lakeshore Drive, Brimley, MI 49715; Telephone: (906) 248-3204.

Boise Fort Reservation Tribal Government, Gary Adams, Human Service Director, 13090 Westley Drive, Suite B, Nett Lake, MN 55772; Telephone: (218) 757-0111; Fax: (218) 757-0109.

F

Fond du Lac Reservation Business Committee, Lisa Polack, ICWA Coordinator, 1720 Big Lake Road, Cloquet, MN 55720; Telephone: (218) 879-1227.

Forest County Potawatomi Community of Wisconsin, Karen Ackley, ICWA Coordinator, P.O. Box 340, Crandon, WI 54520; Telephone: (715) 478-7329.

G

Grand Portage Reservation Grand Portage Human Services, P.O. Box 428, Grand Portage, MN 55604; Telephone: (218) 475-2453.

Grand Traverse Band of Ottawa and Chippewa Indians of Michigan, Ms. Sonya Zotigh, Tribal Manager, 2605 N. West Bayshore Drive, Peshawbestown, MI 49682; Telephone: (231) 534-7136; Fax: (231) 534-7112.

H

Hannahville Indian Community of Michigan, ICWA Worker, N14911 Hannahville B1 Road, Wilson, MI 49896-9728; Telephone: (906) 466-9320.

Ho-Chunk Nation, ICWA Coordinator, P.O. Box 40, Black River Falls, WI 54615; Telephone: (715) 284-2622; Fax: (715) 284-9486.

Huron Potawatomi, Inc., Nancy Smit, ICWA Worker, (MSW-Social Worker), 4415 Byron Center Avenue SW, Wyoming, MI 49509; Telephone: (616) 249-0159; Fax: (616) 249-8688.

K

Keweenaw Bay Indian (Chippewa) Community of the L'Anse Reservation of Michigan, Judy Heath, Tribal Social Service Director/ICWA Worker, 107 Beartown Road, Baraga, MI 49908; Telephone: (906) 353-6623 Ext. 4201; Fax: (906) 353-8171.

L

Lac Courte Oreilles Band of Lake Superior Chippewa Indians of Wisconsin, LuAnn Kolumbus, Tribal Social Services Director, 13394 W. Trepania Road, Building #1, Hayward, WI 54843; Telephone: (715) 634-8934.

Lac du Flambeau Band of Lake Superior Chippewa Indians of Wisconsin, Laura Kuehn, ICWA Coordinator, P.O. Box 189, Lac du Flambeau, WI 54538; Telephone: (715) 588-1511; Fax: (715) 588-3903.

Lac Vieux Desert Band of Lake Superior Chippewa Indians of Michigan, Melissa J. McGeshick, ICWA Coordinator, P.O. Box 249, Watersmeet, MI 49969; Telephone: (906) 358-4940.

Leech Lake Band of Ojibwe, Rose Robinson, ICWA Coordinator, 115 Sixth Street NW, Suite E, Cass Lake, MN 56633; Telephone: (218) 335-8270; Fax: (218) 335-8352.

Little River Band of Ottawa Indians, Inc., First Contact: Gene Zeller, Prosecutor, Prosecutors Office, 375 River Street, Manistee, MI 49660; Telephone: (213) 398-2242; Fax: (231) 398-3387. Second Contact: Bill Memberto, Director, Family Services Department; Telephone: (231) 398-6728; Fax: (231) 398-9680.

Little Traverse Bay Band of Odawa Indians, Angeline Woodin, Human Services Director, 7500 Odawa Circle, Harbor Springs, MI 49740; Telephone: (231) 242-1400.

Lower Sioux Indian Community of Minnesota, Ronald P. Leith, Director, TSS, 39527 Res Highway 1, P.O. Box 308, Morton, MN 56270-0308; Telephone: (507) 697-9108.

M

Match-E-Be-Nash-She-Wish Band of Potawatomi Indians of Michigan, Leslie Pigeon, ICWA Coordinator, P.O. Box 306, 1743 142nd Avenue, Suite 8, Dorr, MI 49323; Telephone: (616) 681-0360.

Menominee Indian Tribe of Wisconsin, Mary Husby, Social Services Director, P.O. Box 910, Keshena, WI 54135-0910; Telephone: (715) 799-5161; Fax: (715) 799-6061.

Mille Lacs Reservation Business Committee, ICWA Coordinator, 43408 Oodana Drive, Onamia, MN 56359; Telephone: (320) 532-4139.

Minnesota Chippewa Tribe of Minnesota, Adrienne Adkins, Human Services Director, P.O. Box 217, Cass Lake, MN 56633; Telephone: (218) 335-8585.

O

Oneida Tribe of Indians of Wisconsin, ICWA Program, P.O. Box 365, Oneida, WI 54155; Telephone: (920) 490-3700.

P

Pokagon Band of Potawatomi Indians of Michigan, Kathleen McKee, TSS Director, 58620 Sink Road, Dowagiac, MI 49047; Telephone: (269) 782-4300.

Prairie Island Indian Community Mdewakanton Dakota Sioux of Minnesota, ICWA Coordinator, 5636 Sturgeon Lake Road, Welch, MN 55089; Telephone: (651) 385-4185 or 1-800-554-5473; Fax: (651) 385-4183.

R

Red Cliff Band of Lake Superior Chippewa Indians of Wisconsin, Beth Meyers, ICWA Director, 88385 Pike Road, Highway 13, Bayfield, WI 54814; Telephone: (715) 779-3747 Ext. 18.

Red Lake Band of Chippewa Indians, Dr. Sandra Parsons, Family and Children Services, Box 427, Red Lake, MN 56671; Telephone: (218) 679-2122.

S

Sac & Fox Tribe of the Mississippi in Iowa, ICWA Coordinator, P.O. Box 245, Tama, IA 52339; Telephone: (641) 484-4444 or Toll Free: (877) 484-4444: Fax: (641) 484-2103.

Saginaw Chippewa Indians of MI, Sylvia Evans, TSS Director, 7070 East Broadway Road, Mt. Pleasant, MI 48858; Telephone: (989) 775-4000.

Sault Ste. Marie Tribe of Chippewa Indians of Michigan, Juanita Bye, Child Placement Director, 2864 Ashmun Street, 3rd Floor, Sault Ste. Marie, MI 49783; Telephone: (906) 632-5250 Ext. 23180; Fax: (906) 632-5266.

Shakopee Mdewakanton Sioux Community of Minnesota, Kim Goetzinger, TSS Director, 2330 Sioux Trail NW, Prior Lake, MN 55372; Telephone: (952) 445-6165.

Sokaogon Chippewa (Mole Lake) Community of Wisconsin, Angela Charbarneau, ICWA Worker, 3051 Sand Lake Road, Crandon, WI 54520; Telephone: (715) 478-2520; Fax: (715) 478-7674.

St. Croix Chippewa Indians of Wisconsin, Kathryn LaPointe, ICWA Director, 24663 Angeline Avenue, Webster, WI 54893; Telephone: (715) 349-2195; Fax: (715) 349-8665.

Stockbridge-Munsee Community of Wisconsin, Natalie Young, ICWA Coordinator, N8476 Mo He Con Nuck Road, Bowler, WI 54416; Telephone: (715) 793-4580.

U

Upper Sioux Community of Minnesota, Susan Campion, Manager, P.O. Box 147, Granite Falls, MN 56241-0147; Telephone: (320) 564-2360; Fax: (320) 564-3264.

W

White Earth Reservation Business Committee, Jeri Jasken, ICWA Coordinator, P.O. Box 70, ICW, Naytahwaush, MN 56566; Telephone: (218) 935-5554.

Navajo Region

Elouise Chicharello, Regional Director, Navajo Regional Office, P.O. Box 1060, Gallup, NM 87305; Telephone: (505) 863-8314; Fax: (505) 863-8324.

Vivian Yazza, M.S.W., L.I.S.W., Regional Social Worker, P.O. Box 1060, 301 West Hill Street, Gallup, New Mexico, 87305-1060; Telephone: (505) 863-8215, Fax: (505) 863-8292.

Rita Wilson, M.S.W., Acting Director, Navajo Children and Family Services (ICWA),P.O. Box 1930, Window Rock, Arizona 86515; Telephone: (928) 871-6832 or 6806; Fax: (928) 871-7667.

Northwest Region

Stanley Speaks, Regional Director, 911 NE 11th Avenue, Portland, OR 97232; Telephone: (503) 231-6702; Fax: (503) 231-2201.

Stella Charles, Regional Social Worker, 911 NE 11th Avenue, Portland, OR 97232; Telephone: (503) 231-6785; Fax: (503) 231-6731.

B

Burns Paiute Tribe, Phyllis Harrington, ICWA Contact, H.C. 71, 100 Pasigo Street, Burns, OR 97720; Telephone: (541) 573-7312 Ext. 221; Fax: (541) 573-4217.

C

Chehalis Business Council, Nancy Dufraine, ICWA Contact, P.O. Box 536, Oakville, WA 98568-9616; Telephone: (360) 273-5911; Fax: (360) 273-5914.

Colville Business Council, ICWA, P.O. Box 150, Nespelem, WA 99155-011; Telephone: (509) 634-2200; Fax: (509) 634-4116.

Coeur d'Alene Tribal Council, ICWA, 850 A St., Box 408, Plummer, ID 83851-0408; Telephone: (208) 686-1800; Fax: (208) 686-8813.

Confederated Salish & Kootenai Tribes, Beverly Swaney, ICWA Contact, Box 278, Pablo, MT 59855; Telephone: (406) 675-2700; Fax: (406) 675-2749.

Confederated Tribes of Coos, Lower Umpqua & Siuslaw Indians, Tom Long, ICWA Specialist, P.O. Box 3279, Coos Bay, OR 97420; Telephone: (541) 888-3012; Fax: (541) 888-1027.

Confederated Tribes of Grand Ronde Community of Oregon, Dana Ainam, ICWA Contact, 9615 Grand Ronde Road, Grand Ronde, OR 97347-0038; Telephone: (503) 879-2034; Fax: (503) 879-2142.

Confederated Tribes of the Umatilla Indian Reservation, Attorney General, Department of Justice, ICWA, P.O. Box 638, Pendleton, OR 97801; Telephone: (541) 966-2030; Fax: (541) 278-7462.

Coquille Indian Tribe, Wayne Grant, ICWA Contact, P.O. Box 3190, Coos Bay, OR 97420; Telephone: (541) 888-9494; Fax: (541) 888-0673.

Cow Creek Band of Umpqua Tribe of Indians, Rhonda Malone, ICWA Contact, 2371 NE Stephens, Suite 100, Roseburg, OR 97470-1338; Telephone: (541) 672-9405; Fax: (541) 673-0432.

Cowlitz Indian Tribe, Carolee Morris, ICWA Director, P.O. Box 2547, Longview, WA 98632-8594; Telephone: (360) 577-8140; Fax: (360) 577-7432.

H

Hoh Tribal Business Committee, Ruth King, ICWA Contact, 2464 Lower Hoh Road, Forks, WA 98331; Telephone: (360) 374-6582; Fax: (360) 374-6549.

J

Jamestown Skallam Tribal Council, Liz Mueller, ICWA Specialist, 1033 Old Blyn Hwy, Sequim, WA 98382; Telephone: (360) 681-4628; Fax: (360) 681-7288.

K

Kalispel Tribe of Indians, Sandra Kubu, ICWA Coordinator, P.O. Box 327, USK, WA 99180; Telephone: (509) 445-1762 or (509) 445-1682; Fax: (509) 445-1650.

Klamath Tribe, Morris Blakey, ICWA Specialist, P.O. Box 436, Chiloquin, OR 97624; Telephone: (541) 783-2219; Fax: (541) 783-3685.

Kootenai Tribal Council, ICWA, P.O. Box 1269, Bonners Ferry, ID 83805-1269; Telephone: (208) 267-3519; Fax: (208) 267-2960.

L

Lower Elwha Tribal Community Council, Patricia Elofson, ICWA Contact, 2851 Lower Elwha Road, Port Angeles, WA 98363-9518; Telephone: (360) 452-8471; Fax: (360) 452-3428.

Lummi Tribe of the Lummi Reservation, Kim Goes Behind, ICWA Contact, 1790 Bayon Road, Bellingham, WA 98225; Telephone: (360) 738-0848; Fax: (360) 738-0068.

M

Makah Indian Tribal Council, Vickie Carlson, ICWA Caseworker, Makah Family Services, P.O. Box 115, Neah Bay, WA 98357-0115, mtcicwa@centurytel.net; Telephone: (360) 645-3257; Fax: (360) 645-2806.

Metlakatla Indian Community, Karen Blandov-Thompson, ICWA Contact, P.O. Box 8, Metlakatla, AK 99926-0008; Telephone: (907) 886-6911; Fax: (907) 886-6913.

Muckleshoot Indian Tribe, Sharon Hamilton, ICWA Specialist, 39015 172nd Avenue, SE, Auburn, WA 98092; Telephone: (253) 939-3311; Fax: (253) 939-5311.

N

Nez Perce Tribe, Melissa Groseclose, ICWA Caseworker, P.O. Box 365, Lapwai, ID 83540; Telephone: (208) 843-2463; Fax: (202) 843-7137.

Nisqually Indian Community, Jim Phonias, ICWA Contact, 4820 She-Nah-Num Drive, SE, Olympia, WA 98513; Telephone: (360) 456-5221; Fax: (360) 407-0318.

Nooksack Indian Tribe of Washington, Nooksack Indian Tribe Legal Department, P.O. Box 1575048, Mount Baker Highway, Deming, WA 98244; Telephone: (360) 592-5176; Fax: (360) 592-2125.

Northwestern Band of Shoshoni Nation, Lawrence Honena, ICWA Contact, 427 North Main, Suite 101, Pocatello, ID 83204; Telephone: (208) 478-5712; Fax: (208) 478-5713.

P

Port Gamble Indian Community, Vickie Doyle, ICWA Contact, 31912 Little Boston Road, NE, Kingston, WA 98346; Telephone: (360) 297-7623; Fax: (360) 297-4452.

Puyallup Tribe, Sandra Cooper, ICWA Liason, 1850 Alexander Avenue, Tacoma, WA 98421; Telephone: (253) 573-7827; Fax: (253) 680-5998.

Q

Quileute Tribal Council, Margret Ward, ICWA Contact, P.O. Box 279, LaPush, WA 98350-0279; Telephone: (360) 374-4325; Fax: (360) 374-6311.

Quinault Indian Nation Business Committee, Clara Hall, ICWA Contact, P.O. Box 189, Taholah, WA 98587-0189; Telephone: (360) 276-8211 Ext. 240; Fax: (360) 267-6778.

S

Samish Indian Tribe of Washington, Keeley Titus, ICWA Specialist, P.O. Box 217, Anacortes, WA 98221; Telephone: (360) 293-6404; Fax: (360) 299-0790.

Sauk-Suiattle Indian Tribe of Washington, Eldora Poitra, ICWA Director, 5318 Chief Brown Lane, Darrington, WA 98241; Telephone: (360) 436-1400; Fax: (360) 436-1870.

Shoalwater Bay Tribal Council, Katherine Horne, ICWA Contact, P.O. Box 130, Tokeland, WA 98590; Telephone: (360) 267-6766; Fax: (360) 267-0247.

Shoshone Bannock Tribes, ICWA, Ft. Hall Business Council, C/O Tribal Attorney, P.O. Box 306, Ft. Hall, ID 83203; Telephone: (208) 478-3923; Fax: (208) 237-9736.

Siletz Tribal Council, Nancy McCrary, ICWA Manager, P.O. Box 549, Siletz, OR 97380-0549; Telephone: (541) 444-2532; Fax: (541) 444-2307.

Skokomish Tribal Council, Kristin Hart, Terrie Remick, ICWA Contact, N. 80 Tribal Center Road, Shelton, WA 98584-9748; Telephone: (360) 426-7788; Fax: (360) 877-6585.

Snoqualmie Tribe, Marie Ramirez, MSW, ICWA Contact, P.O. Box 280, Carnation, WA 98014; Telephone: (425) 333-5425; Fax: (425) 333-5428.

Spokane Tribe of Indians, Debbie Timentwa-Thomas, ICWA Contact, P.O. Box 540, Wellpinit, WA 99040; Telephone: (509) 258-7502; Fax: (509) 258-7029.

Squaxin Island Tribal Council, Linda Charette ICWA Contact, SE 70 Squaxin Lane, Shelton, WA 98584-9200; Telephone: (360) 427-9006; Fax: (360) 427-1957.

Stillaguamish Tribe of Washington, Gary Ramey, ICWA Contact, P.O. Box 277, Arlington, WA 98223-0277; Telephone: (360) 652-7362; Fax: (360) 435-7689.

Suquamish Indian Tribe of the Port Madison Reservation, Dennis Deaton, ICWA Contact, P.O. Box 498, Suquamish, WA 98392; Telephone: (360) 394-8478; Fax: (360) 697-6774.

Swinomish Indians, Tracy Parker, ICWA Contact, P.O. Box 388, LaConner, WA 98257; Telephone: (360) 466-7222; Fax: (360) 466-5309.

T

Tulalip Tribe, Linda Jones, ICWA Contact, 6700 Totem Beach Road, Marysville, WA 98271; Telephone: (360) 651-3284; Fax: (360) 651-3290.

U

Upper Skagit Indian Tribe of Washington, Michelle Anderson-Kamato, ICWA Contact, 2284 Community Plaza Way, Sedro Woolley, WA 98284; Telephone: (360) 856-4200; Fax: (360) 856-3537.

W

Warm Springs Tribal Court, Confederated Tribes of Warm Springs Reservation, Chief Judge Lola Sohappy, ICWA Contact, P.O. Box 850, Warm Springs, OR 97761; Telephone: (541) 553-3454; Fax: (541) 553-3281.

Y

Yakama Nation Program, Nak Nu We Sha ICWA, Attention: Ray E. Olney, Program Director or Delores Armour, Social Work Specialist, P.O. Box 151, Toppenish, WA 98948-0151; Telephone: (509) 865-5121; Fax: (509) 865-2598.

Pacific Region

Clay Gregory, Regional Director, BIA, Federal Building, 2800 Cottage Way, Sacramento, CA 95825; Telephone: (916) 978-6000; Fax: (916) 978-6055.

Kevin Sanders, Regional Social Worker, BIA-Federal Building, 2800 Cottage Way, Sacramento, CA 95825; Telephone: (916) 978-6048; Fax: (916) 978-6055.

A

Agua Caliente Band of Cahuilla Indians, Chantel Schuering, Tribal Family Services Director, 901 E. Tahquitz Canyon Way, Suite C—204, Palm Springs, CA 92262; Telephone: (760) 864-1756; Fax: (760) 864-1761; E-mail: cschuering@aguacaliente.net.

Alturas Rancheria, Chairman, P.O. Box 340, Alturas, CA 96101; Telephone: (530) 233-5571.

Auburn Rancheria, Chairperson, United Auburn Indian Community, 575 Menlo Drive, Suite 2, Rocklin, CA 95765; Telephone: (916) 663-3720; Fax: (916) 663-3727.

Augustine Band of Mission Indians, Chairperson, P.O. Box 846, Coachella, CA 92236; Telephone: (760) 369-7171.

B

Barona Band of Mission Indians, Program Director, Kumeyaay Family Services, Southern Indian Health Council, Inc., 4058 Willow Rd., Alpine, CA 91903; Telephone: (619) 445-1188; Fax: (619) 445-0765.

Bear River Band of Rohnerville Rancheria, Chairperson, 32 Bear River Drive, Loleta, CA 95551; Telephone: (707) 773-1900; Fax: (707) 733-1972.

Berry Creek Rancheria, ICWA Director, 5 Tyme Way, Oroville, CA 95966; Telephone: (530) 534-3859.

Big Lagoon Rancheria, Barbara Orr, Director, Two Feathers Native American Family Services, 2355 Central Avenue Suite C, McKinleyville, CA 95519; Telephone: (707) 839-1933; Fax: (707) 839-1726.

Big Pine Paiute Tribe, Chairperson, P.O. Box 700, Big Pine, CA 93513; Telephone: (760) 938-2003; Fax: (760) 938-2942.

Big Sandy Rancheria, ICWA Worker, P.O. Box 337, Auberry, CA 93602; Telephone: (559) 855-4003; Fax: (559) 855-4129.

Big Valley Band of Pomo Indians, Tina M. Ramos, ICWA Coordinator, 2726 Mission Rancheria Road, Lakeport, CA 95453; Telephone: (707) 263-3924; Fax: (707) 262-5672.

Bishop Reservation, Tribal Chairman, Gerald Howard, Attention: Gaylene Moose, 52 Tu Su Lane, Bishop, CA 93514; Telephone: (760) 873-3584; Fax: (760) 873-4143.

Blue Lake Rancheria, Chairperson, P.O. Box 428, Blue Lake, CA 95525; Telephone: (707) 668-5101.

Bridgeport Indian Colony, Chairperson, P.O. Box 37, Bridgeport, CA 93517; Telephone: (760) 932-7083; Fax: (760) 932-7846.

Buena Vista Rancheria, Chairperson, P.O. Box 162283, Sacramento, CA 95816; Telephone: (916) 491-0011; Fax: (916) 491-0012.

C

Cabazon Band of Mission Indians, Chairman, 84-245 Indio Springs Drive, Indio, CA 92201; Telephone: (760) 342-2593; Fax: (760) 347-7880.

California Valley Miwok Tribe, Chairman, 10601 Escondido Place, Stockton, CA 95212; Telephone: (209) 931-4567.

Cahuilla Band of Mission Indians, Executive Director, Indian Child & Family Services, P.O. Box 2269, Temecula, CA 92590; Telephone: (951) 676-8832; Fax: (951) 676-3950.

Campo Band of Mission Indians, Chairman, 36190 Church Road, Suite 1, Campo, CA 91906; Telephone: (619) 478-9046; Fax: (619) 478-5818.

Cedarville Rancheria, Chairperson, ICWA Director, 200 S. Howard Street, Alturas, CA 96101; Telephone: (530) 233-3969; Fax: (530) 233-4776.

Chicken Ranch Rancheria, Chairperson, P.O. Box 1159, Jamestown, CA 95327; Telephone: (209) 984-4806; Fax: (209) 984-5606.

Cloverdale Rancheria, Marcellena Becerra, ICWA Coordinator, 555 S. Cloverdale Blvd., Suite A, Cloverdale, CA 95425; Telephone: (707) 894-5775; Fax: (707) 894-5727.

Cold Springs Rancheria, ICWA Coordinator, P.O. Box 209, Tollhouse, CA 93667; Telephone: (559) 855-5043; Fax: (559) 855-4445.

Colusa Rancheria, Community Services Dept., 3740 Highway 45, Colusa, CA 95932; Telephone: (530) 458-8231.

Cortina Rancheria, Chairperson, P.O. Box 1630, Williams, CA 95987; Telephone: (530) 473-3274.

Coyote Valley Reservation, Lorraine Laiwa, ICWA Coordinator, Indian Child & Family Preservation Program, 684 S. Orchard Avenue, Ukiah, CA 95482; Telephone: (707) 463-2644; Fax: (707) 463-8956.

Cuyapaipe Band of Mission Indians (see Ewiiaapaayp), Tribal Administrator, P.O. Box 2250, Alpine, CA 91903-2250; Telephone: (619) 445-6315; Fax: (619) 445-9126.

D

Dry Creek Rancheria, Support Services Dept., Lori Leach, P.O. Box 607, Geyserville, CA 95441; Telephone: (707) 473-2183; Fax: (707) 473-2197.

E

Elem Indian Colony, Chairperson, P.O. Box 989, Clearlake Oaks, CA 95423; Telephone: (707) 998-9411; Fax: (707) 998-9444.

Elk Valley Rancheria, Chairperson, 2332 Howland Hill Rd., Crescent City, CA 95531; Telephone: (707) 464-4680.

Enterprise Rancheria, Chairperson, 1940 Feather River Blvd., Suite B, Oroville, CA 95965; Telephone: (530) 532-9214; Fax: (530) 532-1768.

Ewiiaapaayp Band of Kumeyaay Indians, Tribal Administrator, P.O. Box 2250, Alpine, CA 91903-2250; Telephone: (619) 445-2621; Fax: (619) 445-9126.

F

Fort Bidwell Reservation, Chairperson, P.O. Box 129, Fort Bidwell, CA 96112; Telephone: (530) 279-6310; Fax: (530) 279-2233.

Fort Independence Reservation, Chairperson, P.O. Box 67, Independence, CA 93526; Telephone: (760) 878-2126; Fax: (760) 878-2311.

G

Graton Rancheria, Michele Porter, ICWA Coordinator, 320 Tesconi Circle, Suite G, Santa Rosa, CA 95401; Telephone: (707) 566-2288 Ext. 1005.

Greenville Rancheria, ICWA Coordinator, Greenville Health Clinic, P.O. Box 279, Greenville, CA 95947; Telephone: (530) 284-7990; Fax: (530) 284-6612.

Grindstone Rancheria, ICWA Coordinator, P.O. Box 63, Elk Creek, CA 95939; Telephone: (530) 968-5365; Fax: (530) 968-5366.

Guidiville Rancheria, Chairperson, P.O. Box 339, Talmage, CA 95481; Telephone: (707) 462-3682; Fax: (707) 462-9183.

H

Habematolel Pomo of Upper Lake Rancheria, Angelina Arroyo, ICWA Advocate, P.O. Box 516, Upper Lake, CA 95485; Telephone: (707) 275-0737; Fax: (707) 275-2007.

Hoopa Valley Tribe, Director, Social Services, ICWA Program, P.O. Box 1267, Hoopa, CA 95546; Telephone: (530) 625-4236.

Hopland Reservation, c/o ICWA Program, 3000 Shanel Rd., Hopland, CA 95449; Telephone: (707) 744-1647; Fax: (707) 472-2110.

I

Inaja & Cosmit Band of Mission Indians, ICWA Manager, Department of Operations, Indian Health Council, Inc., P.O. Box 406, Pauma Valley, CA 92061; Telephone: (760) 749-1410; Fax: (760) 749-5518.

Ione Band of Miwok Indians, Tribal Administrator, P.O. Box 1190, Ione, CA 95640; Telephone: (209) 274-6753; Fax: (209) 274-6636.

J

Jackson Rancheria, ICWA Manager, Tuolumne Indian Child & Family Services, P.O. Box 615, Tuolumne, CA 95379; Telephone: (209) 223-1935; Fax: (209) 223-5366.

Jamul Indian Village, Program Director, Kumeyaay Family Services, Southern Indian Health Council, 4058 Willows Rd., Alpine, CA 91903; Telephone: (619) 445-1188; Fax: (619) 445-0765.

K

Karuk Tribe of California, Director, Social Services, ICWA Social Worker, 1519 S. Oregon Street, Yreka, CA 96097; Telephone: (530) 493-1600 or (530) 842-9228.

L

La Jolla Band of Luiseno Indians, ICWA Manager, Department of Operations, Indian Health Council, Inc., P.O. Box 406, Pauma Valley, CA 92061; Telephone: (760) 749-1410; Fax: (760) 749-5518.

La Posta Band of Mission Indians, Program Director, Kumeyaay Family Services, Southern Indian Health Council, 4058 Willows Rd., Alpine, CA 91903-2128; Telephone: (619) 445-1188; Fax: (619) 445-0765.

Laytonville Rancheria, ICWA Director, P.O. Box 1239, Laytonville, CA 95454; Telephone: (707) 984-6197.

Lone Pine Reservation, Chairperson, P.O. Box 747, Lone Pine, CA 93545; Telephone: (760) 876-1034.

Lower Lake Rancheria, Chairperson, P.O. Box 3162, Santa Rosa, CA 95402; Telephone: (707) 575-5586; Fax: (707) 575-5586.

Los Coyotes Band of Mission Indians, ICWA Manager, Department of Operations, Indian Health Council, Inc., P.O. Box 406, Pauma Valley, CA 92061; Telephone: (760) 749-1410; Fax: (760) 749-5518.

Lytton Rancheria, Margie Mejia, Chairwoman, 1300 N. Dutton Avenue, Suite A, Santa Rosa, CA 95401-3515; Telephone: (707) 575-5917; Fax: (707) 575-6974.

M

Manchester-Point Arena Rancheria, Lorraine Laiwa, ICWA Coordinator, Indian Child & Family Preservation Program, 684 S. Orchard Avenue, Ukiah, CA 95482; Telephone: (707) 463-2644; Fax: (707) 463-8956.

Manzanita Band of Mission Indians, Chairperson, P.O. Box 1302, Boulevard, CA 91905; Telephone: (619) 766-4930; Fax: (619) 766-4957.

Mechoopda Indian Tribe of the Chico Rancheria, Chairperson, 125 Mission Ranch Boulevard, Chico, CA 95926; Telephone: (530) 899-8922; Fax: (530) 899-8517.

Mesa Grande Band of Mission Indians, ICWA Manager, Department of Operations, Indian Health Council, Inc., P.O. Box 460, Pauma Valley, CA 92061; Telephone: (760) 749-1410; Fax: (760) 749-5518.

Middletown Rancheria, ICWA Coordinator, P.O. Box 1829, Middletown, CA 95461; Telephone: (707) 987-3670; Fax: (707) 987-8205.

Mooretown Rancheria, Francine Mckinley, ICWA Coordinator, 1 Alverda Drive, Oroville, CA 95966; Telephone: (530) 533-3625; Fax: (530) 533-0664.

Morongo Band of Mission Indians, Maurice Lyons, Chairman, 11581 Potrero Road, Banning, CA 92220; Telephone: (951) 849-4697; Fax: (951) 922-0338.

N

North Fork Rancheria, Tribal Chair, Elaine Fink, ICWA Dept., P.O. Box 929, North Fork, CA 93643; Telephone: (559) 877-2461; Fax: (559) 877-2467.

P

Pala Band of Mission Indians, Robert Smith, Chairperson, 35008 Pala-Temecula Road, PMB 50, Pala, CA 92059; Telephone: (760) 742-3784; Fax: (760) 891-3582.

Paskenta Band of Nomlaki Indians, Ines Crosby, ICWA Coordinator, P.O. Box 398, Orland, CA 95963; Telephone: (530) 865-2010; Fax: (530) 865-1870.

Pauma & Yuima Band of Mission Indians, ICWA Manager, Department of Operations, Indian Health Council, Inc., P.O. Box 406, Pauma Valley, CA 92061; Telephone: (760) 749-1410; Fax: (760) 749-5518.

Pechanga Band of Mission Indians, Mark Macarro, Spokesman, P.O. Box 1477, Temecula, CA 92593; Telephone: (951) 676-2768; Fax: (951) 695-1778.

Picayune Rancheria of Chukchansi Indians, ICWA Director, 46575 Road 417, Coarsegold, CA 93614; Telephone: (559) 683-6633; Fax: (559) 683-0599.

Pinoleville Reservation, Chairperson, 367 North State Street, Suite 204, Ukiah, CA 95482; Telephone: (707) 463-1454.

Pit River Reservation, ICWA Director, 37718 Main Street, Burney, CA 96013; Telephone: (530) 335-5421 or 866-335-5530; Fax: (530) 335-3966.

Potter Valley Rancheria, Lorraine Laiwa, ICWA Coordinator, Indian Child & Family Preservation Program, 684 S. Orchard Avenue, Ukiah, CA 95482; Telephone: (707) 463-2644; Fax: (707) 463-8956.

Q

Quartz Valley Indian Reservation, ICWA Director, 13601 Quartz Valley Rd., Fort Jones, CA 96032; Telephone: (530) 468-5729 or 5937; Fax: (530) 468-5908.

R

Ramona Band or Village of Cahuilla Mission Indians, ICWA Coordinator, P.O. Box 391372, Anza, CA 92539; Telephone: (951) 676-8832; Fax: (951) 763-4325.

Redding Rancheria, Director, Social Services, 2000 Rancheria Road, Redding, CA 96001-5528; Telephone: (530) 225-8979.

Redwood Valley Rancheria, Mary Nevarez, ICWA Coordinator, 3250 Road I, Redwood Valley, CA 95470; Telephone: (707) 485-0361; Fax: (707) 485-5726; E-mail: redwoodres@pacific.net.

Resighini Rancheria, Chairperson, P.O. Box 529, Klamath, CA 95548; Telephone: (707) 482-2431; Fax: (707) 482-3425.

Rincon Band of Mission Indians, ICWA Manager, Department of Operations, Indian Health Council, P.O. Box 406, Pauma Valley, CA 92061; Telephone: (760) 749-1410; Fax: (760) 749-8901.

Robinson Rancheria, Marsha Lee, ICWA Coordinator, P.O. Box 563, Nice, CA 95464; Telephone: (707) 275-9363; E-mail: MLEE@robinsonrancheria.org.

Round Valley Reservation, Valerie Britton, ICWA Coordinator, P.O. Box 448, Covelo, CA 95428; Telephone: (707) 983-8008; Fax: (707) 983-6128.

Rumsey Rancheria, Chairperson, P.O. Box 18, Brooks, CA 95606; Telephone: (530) 796-3400.

S

San Manuel Band of Mission Indians, Tribal Secretary, P.O. Box 266, Patton, CA 92369; Telephone: (909) 864-8933; Fax: (909) 864-3370.

San Pasqual Band of Diegueno Indians, ICWA Manager, Department of Operations, Indian Health Council, Inc., P.O. Box 406, Pauma Valley, CA 92061; Telephone: (760) 749-1410; Fax: (760) 749-5518.

Santa Rosa Band of Mission Indians, ICWA Representative, P.O. Box 609, Hemet, CA 92546; Telephone: (951) 658-5311; Fax: (951) 685-6733.

Santa Rosa Rancheria, Chairperson, P.O. Box 8, Lemoore, CA 93245-0008; Telephone: (559) 925-2940; Fax: (559) 925-2947.

Santa Ynez Band of Mission Indians, Shelli Pfiefer, Social Services Program, P.O. Box 539, Santa Ynez, CA 93460; Telephone: (805) 688-7070 Ext. 14; Fax: (805) 686-5194.

Santa Ysabel Band of Mission Indians, Linda Ruis, Director, Santa Ysabel Social Services Dept., P.O. Box 701, Santa Ysabel, CA 92070; Telephone: (760) 765-1106; Fax: (760) 765-0312.

Scotts Valley Rancheria, Sharon Warner, ICWA Coordinator, 301 Industrial Ave., Lakeport, CA 95453; Telephone: (707) 263-4220; Fax: (707) 263-4345.

Sherwood Valley Rancheria, Lorraine Laiwa, ICWA Coordinator, Indian Child & Family Preservation Program, 684 S. Orchard Ave., Ukiah, CA 95482; Telephone: (707) 463-2644; Fax: (707) 463-8956.

Shingle Springs Rancheria, ICWA Coordinator, P.O. Box 1340, Shingle Springs, CA 95682; Telephone: (530) 676-8010; Fax: (530) 676-8033.

Smith River Rancheria, Elvira Rodriquez, ICWA Director, 140 Rowdy Creek Road, Smith River, CA 95567-9446; Telephone: (707) 487-9255; Fax: (707) 487-0930.

Soboba Band of Luiseno Indians, Project Manager, P.O. Box 487, San Jacinto, CA 92581; Telephone: (951) 654-2765; Fax: (951) 654-4198.

Stewarts Point Rancheria, Lorraine Laiwa, Indian Child & Family Preservation Program, 684 S. Orchard Avenue, Ukiah, CA 95482; Telephone: (707) 463-2644; Fax: (707) 463-8956.

Susanville Indian Rancheria, Chairperson, ICWA Director, 745 Joaquin St., Susanville, CA 96130; Telephone: (530) 251-5205.

Sycuan Band of Mission Indians, Program Director, Kumeyaay Family Services, Southern Indian Health Council, 4058 Willow Rd., Alpine, CA 91903-2128; Telephone: (619) 445-1188; Fax: (619) 445-0765.

T

Table Mountain Rancheria, Chairperson, P.O. Box 410, Friant, CA 93626-0410; Telephone: (559) 822-2587; Fax: (559) 822-2693.

Timbi-sha Shoshone Tribe, ICWA Representative, P.O. Box 786, Bishop, CA 93515; Telephone (760) 873-9003; Fax: (760) 873-9004.

Torres-Martinez Desert Cahuilla Indians, Annette Chihuahua, ICWA Representative, P.O. Box 1160, Thermal, CA 92274; Telephone: (760) 397-0300; Fax: (760) 397-0455.

Trinidad Rancheria, Chairperson, P.O. Box 630, Trinidad, CA 95570; Telephone: (707) 677-0211; Fax: (707) 677-3921.

Tule River Reservation, ICWA Director, P.O. Box 589, Porterville, CA 93258; Telephone: (559) 781-4271; Fax: (559) 791-2122.

Tuolumne Rancheria, ICWA Coordinator, P.O. Box 699, Tuolumne, CA 95379; Telephone: (209) 928-3475; Fax: (209) 928-1552.

Twenty-Nine Palms Band of Mission Indians, Executive Director, Indian Child & Family Services, P.O. Box 2269, Temecula, CA 92590; Telephone: (951) 676-8832; Fax: (951) 676-3950.

U

Utu Utu Gwaitu Paiute Tribe of the Benton Paiute Reservation, Joseph C. Saulque, Tribal Administrator, 567 Yellow Jacket Road, Benton, CA 93512; Telephone: (760) 933-2321; Fax: (760) 933-2412; E-mail: numic@qnet.com.

V

Viejas (Baron Long) Band of Mission Indians, Program Director, Kumeyaay Family Services, Southern Indian Health Council, 4058 Willow Rd., Alpine, CA 91903-2128; Telephone: (619) 445-1188; Fax: (619) 445-0765.

W

Wiyot Tribe, Elsie McLaughlin-Feliz, Director, Social Services, 1000 Wiyot Drive, Loleta, CA 95551; Telephone: (707) 733-5055; Fax: (707) 733-5601.

Y

Yurok Tribe, Director, Social Services, ICWA Coordinator, P.O. Box 1027, Klamath, CA 95548; Telephone: (707) 482-1350.

Rocky Mountain Region

Edward Parisian, Acting Regional Director, 316 North 26th Street, Billings, Montana 59101; Telephone: (406) 247-7943; Fax: (406) 247-7976.

Jo Ann Birdshead, Regional Social Worker, 316 North 26th Street, Billings, Montana 59101; Telephone: (406) 247-7988; Fax: (406) 247-7566.

A

Assiniboine and Sioux Tribes of the Fort Peck Reservation of Montana, Chairman, P.O. Box, 1027, Poplar, Montana 59255; Telephone: (406) 768-5155; Fax: (406) 768-5478.

B

Blackfeet Tribe of Montana, Indian Child Welfare Act (ICWA) Coordinator, P.O. Box 588, Browning, Montana 59417; Telephone: (406) 338-7806; Fax: (406) 338-7726.

C

Chippewa Cree Tribe of the Rocky Boys Reservation of Montana, Tribal Chairman, Rural Route 1, P.O. Box 544, Box Elder, Montana 59521; Telephone: (406) 395-4478; Fax: (406) 395-4497.

Crow Tribe of the Crow Reservation of Montana, Director of Tribal Social Services, P.O. Box 159, Crow Agency, Montana 59022; Telephone: (406) 638-3925; Fax: (406) 638-4042.

E

Eastern Shoshone Tribe of the Wind River Reservation, Chairman, P.O. Box 217, Fort Washakie, Wyoming 82514; Telephone: (307) 332-3040; Fax: (307) 332-4557.

G

Gros Ventre and Assiniboine Tribe of Fort Belknap Community Council, Director of Tribal Social Services, Rural Route 1, Box 66, Harlem, Montana 59526; Telephone: (406) 353-2205; Fax: (406) 353-4634.

N

Northern Arapaho Tribe of the Wind River Reservation, Chairman, P.O. Box 217, Fort Washakie, Wyoming 82514; Telephone: (406) 332-6120; Fax: (307) 332-3055.

Northern Cheyenne Tribe of the Northern Cheyenne Reservation, Director, Tribal Social Services, P.O. Box 128, Lame Deer, Montana 59043; Telephone: (406) 477-8321; Fax: (406) 477-8333.

Southern Plains Region

Dan Deerinwater, Regional Director, 1 1/2 mile North Highway 281, P.O. Box 368, Anadarko, OK 73005; Telephone: (405) 247-6673 Ext. 314; Fax: (405) 247-5611.

WCD Office Complex, Regional Social Worker, P.O. Box 368, Anadarko, Oklahoma 73005; Telephone: (405) 247-6673 Ext. 257 or (405) 247-1557; Fax: (405) 247-2895.

A

Absentee-Shawnee Tribe of Oklahoma Indians, Governor, 2025 S. Gordon Cooper Drive, Shawnee, Oklahoma 74801; Telephone: (405) 275-4030.

Alabama-Coushatta Tribe of Texas, Chairperson, 571 State Park Road, #56, Livingston, Texas, 77351; Telephone: (936) 563-4391.

Apache Tribe of Oklahoma, Chairperson, P.O. Box 1220, Anadarko, Oklahoma 73005; Telephone: (405) 247-9493.

C

Caddo Indian Tribe of Oklahoma, Chairperson, P.O. Box 487, Binger, Oklahoma 73009; Telephone: (405) 656-2344.

Cheyenne-Arapaho Tribes of Oklahoma, Chairperson, P.O. Box 38, Concho, Oklahoma 73022; Telephone: (405) 262-0345.

Citizen Potawatomi Nation, Chairperson, 1601 S. Gordon Cooper Drive, Shawnee, Oklahoma 74801; Telephone: (405) 275-3121.

Comanche Indian Tribe of Oklahoma, Chairperson, HC 32, Box 1720, Lawton, Oklahoma 73502; Telephone: (580) 492-4988.

D

Delaware Nation of Oklahoma, President, P.O. Box 825, Anadarko, Oklahoma 73005; Telephone: (405) 247-2448: Fax (405) 247-9393.

F

Fort Sill Apache Tribe of Oklahoma, Chairperson, Route 2, Box 121, Apache, Oklahoma 73006; Telephone: (580) 588-2298.

I

Iowa Tribe of Kansas, Chairperson, 3345 B. Thrasher Rd., White Cloud, Kansas 66094; Telephone: (785) 595-3258.

Iowa Tribe of Oklahoma, Chairperson, Route 1, Box 721, Perkins, Oklahoma 74059; Telephone: (405) 547-2402.

K

Kaw Nation, Chairperson, Drawer 50, Kaw City, Oklahoma 74641; Telephone: (580) 269-2552.

Kickapoo Traditional Tribe of Texas, Chairperson, HC 1, Box 9700, Eagle Pass, Texas 78852; Telephone: (830) 773-2105.

Kickapoo Tribe of Indians of The Kickapoo Reservation in Kansas, Chairperson, P.O. Box 271, Horton, Kansas 66439; Telephone: (785) 486-2131.

Kickapoo Tribe of Oklahoma, Chairperson, P.O. Box 70, McLoud, Oklahoma 74851; Telephone: (405) 964-2075.

Kiowa Indian Tribe of Oklahoma, Chairperson, P.O. Box 369, Carnegie, Oklahoma 73015; Telephone: (580) 654-2300.

O

Otoe-Missouria Indian Tribe of Oklahoma, Chairperson, 8151 Highway 177, Red Rock, Oklahoma 74651; Telephone: (580) 723-4466.

P

Pawnee Indian Tribe of Oklahoma, President, P.O. Box 470, Pawnee, Oklahoma 74058; Telephone: (918) 762-3621.

Ponca Tribe of Indians of Oklahoma, Chairperson, 20 White Eagle Drive, Ponca City, Oklahoma 74601; Telephone: (580) 762-8104.

Prairie Band of Potawatomi Indians of Kansas, Chairperson, 16281 Q. Road, Mayetta, Kansas 66509; Telephone: (785) 966-2255.

S

Sac and Fox of Missouri in Kansas, Chairperson, 305 N. Main St., Reserve, Kansas 66434; Telephone: (785) 742-7471.

Sac and Fox Nation of Oklahoma, Principal Chief, Route 2, Box 246, Stroud, Oklahoma 74079; Telephone: (918) 968-3526.

T

Tonkawa Tribe of Oklahoma, President, P.O. Box 70, Tonkawa, Oklahoma 74653; Telephone: (580) 628-2561.

W

Wichita and Affiliated Tribes of Oklahoma, Indian Child Welfare, Coordinator, P.O. Box 729, Anadarko, Oklahoma 73005; Telephone: (405) 247-2425.

Southwest Region

Larry Morrin, Regional Director, P.O. Box 26567 (87125), 1001 Indian School Road, NW, Albuquerque, NM 87104; Telephone: (505) 563-3100; Fax: (505) 563-3101.

Stephanie Birdwell, Regional Social Worker, P.O. Box 26567 (87125), 1001 Indian School Road, NW, Albuquerque, NM 87104; Telephone: (505) 563-3522; Fax: (505) 563-3058.

Pueblo of Acoma, Melissa Gordon, TEWA Social Worker, P.O. Box 309, Acoma, NM 87034; Telephone: (505) 552-0908; Fax: (505) 552-0901.

Pueblo of Cochiti, Hope Lewis, ICWA Director, P.O. Box 70, Cochiti, NM 87072; Telephone: (505) 465-2244; Fax: (505) 465-1135.

Pueblo of Isleta, Evelyn Ankerpont, ICWA Program, P.O. Box 1270, Isleta, NM 87022; Telephone: (505) 866-6607 or (505) 866-1144.

Pueblo of Jemez, Henrietta Gachupin, Social Services Program, Southern Pueblos Agency, P.O. Box 340, Jemez Pueblo, NM 87024; Telephone: (505) 834-7117; Ext: 205, Fax: (505) 834-7103.

Jicarilla Apache Nation, Patricia (Pat) Serna, Director of Mental Health & Social Services, P.O. Box 546, Dulce, NM 87528; Telephone: (505) 759-3162; Fax: (505) 759-3588.

Pueblo of Laguna, Miriam Sue Goetting, Family Services Program, P.O. Box 194, Laguna, NM 87026; Telephone: (505) 562-9701 or 9713; Fax: (505) 552-6053.

Mescalero Apache Tribe, Irenis Noseep, Acting Supervisor for Social Services, P.O. Box 189, Mescalero, NM 88340; Telephone: (505) 464-4424; Fax: (505) 464-4238.

Pueblo of Nambe, Victoria Parrill, Health and Human Services Manager, P.O. Box 177-BB, Santa Fe, NM 87506; Telephone (505) 455-2036 Ext. 27; Fax (505) 455-2038.

Pueblo of Picuris, Denise Gallegos, ICWA Coordinator, P.O. Box 127, Penasco, NM 87553; Telephone: (505) 587-1003 or 2519; Fax: (505) 587-1071.

Pueblo of Pojoaque, Carmen Chavez-Lujan, Director of Social Services, 58 Cities of Gold Rd., Suite 4, Santa Fe, NM 87506; Telephone: (505) 455-0238; Fax: (505) 455-2363.

Ramah Navajo School Board, Inc., Director of Social Services, P.O. Box 250, Pine Hill, NM 87357; Telephone: (505) 775-3221; Fax: (505) 775-3520.

Pueblo of San Felipe, Darlene Valencia, Family Services Program Director, Pueblo of San Felipe, P.O. Box 4350, San Felipe Pueblo, NM 87004; Telephone: (505) 867-9740; Fax: (505) 867-6166.

Pueblo of San Ildelfonso, William Christian, Contracts Administrator, Route 5, P.O. Box 315-A, Santa Fe, NM 87506; Telephone: (505) 455-2273 Ext. 310; Fax: (505) 455-7351.

Pueblo of San Juan, Jackie Calabaza, ICWA Coordinator, P.O. Box 1187, San Juan Pueblo, NM 87566; Telephone: (505) 852-4400; Fax: (505) 852-4820 or (505) 852-1873.

Pueblo of Sandia, Ms. Lupita Avila, ICWA Program, P.O. Box 6008, Bernalillo, NM 87004; Telephone: (505) 771-5133; Fax: (505) 867-4997.

Pueblo of Santa Ana, Jane Jacksonbear, Director of Social Services, Pueblo of Santa Ana, 2 Dove Road, Bernalillo, NM 87004; Telephone: (505) 771-6737; Fax: (505) 771-7506.

Pueblo of Santa Clara, Fidel Naranjo, ICWA Coordinator, P.O. Box 580, Espanola, NM 87532; Telephone: (505) 747-9633; Fax: (505) 753-8988.

Pueblo of Santo Domingo, Doris Bailon, Director of Social Services, P.O. Box 129, Santo Domingo Pueblo, NM 87052; Telephone: (505) 465-0630; Fax: (505) 465-2554.

Southern Ute Indian Tribe, Denise Gurule, Case Worker I, P.O. Box 737, Ignacio, CO 81137; Telephone: (970) 563-0209; Fax: (970) 563-0334.

Pueblo of Taos, Ms. Linda Aspenwind, ICWA Coordinator, Phyllis Dodson, Social Service Director, Pueblo of Taos, P.O. Box 1846, Taos, NM 87571; Telephone: (505) 758-7824; Fax: (505) 758-3346; Fax: (505) 751-3345.

Pueblo of Tesuque, Rita Jojola-Dorame, ICWA Coordinator, Route 5, Box 360-T, Santa Fe, NM 87501; Telephone: (505) 660-9508; Fax: (505) 982-2331.

Ute Mountain Ute Tribe (Colorado & Utah), Carla Knight-Cantsee, Social Services Director, P.O. Box 309, Towaoc, CO 81334; Telephone: (970) 564-5307 or 5310; Fax: (970) 564-5300.

Ysleta del Sur Pueblo, Elizabeth Acosta, TEWA Family Case Worker, 119 South Old Pueblo Rd., Ysleta Station, El Paso, TX 79907; Telephone: (915) 859-7913 Ext. 151; Fax: (915) 859-5526.

Pueblo of Zia, Eileen Gachupin, ICWA Program or Mark Medina ICWA Coordinator, 135 Capital Square Drive, Zia Pueblo, NM 87053; Telephone: (505) 867-3304; Fax: (505) 867-3308.

Pueblo of Zuni, Denise Sanchez, Family Preservation Worker, P.O. Box 339, Zuni, NM 87327; Telephone: (505) 782-7166; Fax: (505) 782-5077.

Western Region

Allen Anspach, Regional Director, 400 North 5th Street (85004), P.O. Box 10, Phoenix, Arizona 85001; Telephone: (602) 379-6600.

Evelyn S. Roanhorse, Regional Social Worker, 400 North 5th Street (85004), P.O. Box 10, Phoenix, Arizona 85001; Telephone: (602) 379-6785; Fax: (602) 379-3010.

A

Ak Chin Indian Community, Victoria Paddock, Enrollment Specialist, 42507 West Peters & Nall Road, Maricopa, Arizona 85239; Telephone: (520) 568-1023; E-mail: vpaddock@ak-chin.nsn.us.

B

Battle Mountain Band Council, Maria Williams, ICWA Coordinator, 37 Mountain View Drive, Battle Mountain, Nevada 89820; Telephone: (775) 635-9189 Ext. 109.

C

Chemehuevi Indian Tribe, Irene L. Anthony, Tribal Administrator, P.O. Box 1976, Havasu Lake, California 92363; Telephone: (760) 858-4219; Fax: (760) 858-5400; E-mail: chemehuevit@yahoo.com; Amos Hatt, Health Director; Telephone: (760) 858-5426; Fax: (760) 858-5428; E-mail: abhatt4juno.com.

Cocopah Indian Tribe, Mr. Kermit A. Palmer, Tribal Administrator, County 15 and Ave. G, Somerton, Arizona 85350; Telephone: (520) 627-2102.

Colorado River Indian Tribes, Daniel Eddy, Jr., Chairman, Route 1, Box 23-B, Parker, Arizona 85344; Telephone: (928) 669-1280.

D

Duckwater Shoshone Tribal Council, Mary Lou McAlexander. Health Department Manager, P.O. Box 140068, Duckwater, Nevada 89314; Telephone: (775) 863-0227.

E

Elko Band Council, Lillian Garcia, ICWA Coordinator; Margaret Yowell, Social Service Worker, 1745 Silver Eagle Dr., Elko, Nevada 89801; Telephone: (775) 738-8889.

Ely Shoshone Tribal Council, Social Services Director, 400-B Newe View, Ely, Nevada 89301; Telephone: (775) 289-3013; Fax: (775) 289-3237.

F

Fallon Paiute Shoshone Business Council, Lorraine Tioga, MSW, Acting Director, Youth & Family Services, 565 Rio Vista Drive, Fallon, Nevada 89406; Telephone: (775) 423-1215.

Fort McDermitt Paiute-Shoshone Tribe, Ms. Karen M. Crutcher, Chairperson, P.O. Box 457, McDermitt, Nevada 89421; Telephone: (775) 532-8259; Fax: (775) 532-8487.

Fort McDowell Yavapai Tribe, Attention: CPS/ICWA Coordinator, Family and Community Services, P.O. Box 17779, Fountain Hills, Arizona 85269; Telephone: (480) 837-5076.

Fort Mojave Indian Tribe, Attention: Social Services Director, 500 Merriman Avenue, Needles, California 92363; Telephone: (760) 629-3745.

G

Gila River Pima-Maricopa Indian Community, Attention: Drake Lewis, Tribal Social Service Director, P.O. Box 97, Sacaton, Arizona 85247; Telephone: (520) 562-3711 Ext. 233.

Goshute Business Council (Nevada and Utah), Melissa Oppenhein, ICWA, Confederated Tribes of the Goshute Reservation, P.O. Box 6104, Ibapah, Utah 84034; Telephone: (435) 234-1178; Rupert Steele, Chairman, Goshute Business Council, Confederated Tribes of the Goshute Reservation, P.O. Box 6104, Ibapah, Utah 84034; Telephone: (435) 234-1138.

H

Havasupai Tribe, Attention: Phyllis Jones, ICWA Coordinator, P.O. Box 10, Supai, Arizona 86435; Telephone: (928) 448-2731; Fax: (928) 448-2143.

Hopi Tribe of Arizona, Mrs. Eva Sekayumptewa, Supervisory Social Worker, Hopi Guidance Center Social Services, P.O. Box 68, Second Mesa, Arizona 86043; Telephone: (928) 737-2685.

Hualapai Tribe, Carrie Imus, Director, Hualapai Human Services, P.O. Box 480, Peach Springs, Arizona 86434; Telephone: (928) 769-2383 or 2269; Fax: (928) 769-2659.

K

Kaibab Band of Paiute Indians, Jenny Kalauli, Director, Social Services Program, HC 65 Box 2, Pipe Spring, Arizona 86022; Telephone: (928) 643-6010.

L

Las Vegas Paiute Tribe, Ron Pavelko, ICWA /Family Counselor, One Paiute Drive, Las Vegas, Nevada 89106; Telephone: (702) 382-0784.

Lovelock Paiute Tribal Council, Attention: Susan Calvin, Indian Child Welfare Coordinator, P.O. Box 878, Lovelock, Nevada 89419; Telephone: (775) 273-7861.

M

Moapa Band of Paiutes, Dalton Tom, Chairman, P.O. Box 340, Moapa, Nevada 89025; Telephone: (702) 865-2787; Fax: (702) 865-2875.

P

Paiute Indian Tribe of Utah, Attention: Mr. Allan Pauole, ICWA Caseworker, 440 North Paiute Drive, Cedar City, Utah 84720; Telephone: (435) 586-1112.

Pascua Yaqui Tribe, Office of the Attorney General, Tamara Walters, Assistant Attorney General, 4725 West Calle Tetakusim, Bldg. B, Tucson, Arizona 85757; Telephone: (520) 883-5108; Fax: (520) 883-5084.

Pyramid Lake Paiute Tribe, Chairperson, P.O. Box 256, Nixon, Nevada 89424; Telephone: (775) 574-1000.

Q

Quechan Tribal Council, President, P.O. Box 1899, Yuma, Arizona 85366-1899; Telephone: (760) 572-0213; Fax: (760) 572-2102.

R

Reno-Sparks Indian Colony, Attention: Director of Social Services, 98 Colony Road, Reno, Nevada 89502; Telephone: (775) 329-5071.

S

Salt River Pima-Maricopa Indian Community, Office of the General Counsel or Social Services Division, Child Protective Services, 10,005 East Osborn Road, Scottsdale, Arizona 85256; Telephone: (480) 850-4130.

San Carlos Apache Tribe, Mr. Marvin Mull, Jr., ICWA Coordinator, Tribal Social Services, P.O. Box 0, San Carlos, Arizona 85550; Telephone: (928) 475-2313 or 2314; Fax: (928) 475-2342.

San Juan Southern Paiute Tribe, Ms. Candelora Lehi, Tribal Enrollment Officer, Health and Human Services, P.O. Box 1169, Tuba City, Arizona 86045; Telephone: (928) 283-4587 or 4589; Fax: (928) 283-5531 or 5761.

Shoshone-Paiute Tribes of the Duck Valley Reservation (Nevada), Chairman, P.O. Box 219, Owyhee, Nevada 89832; Telephone: (208) 759-3100.

Skull Valley Band of Goshute Indians, Attention: ICWA Program Office, Metropolitan Plaza, Suite 110, 2480 S. Main Street, South Salt Lake City, Utah 84115; Telephone: (801) 474-0535.

South Fork Band Council, Karen McDade, Director, Social Services Program, 21 Lee, B13, Spring Creek, Nevada 89815; Telephone: (775) 744-2412.

Summit Lake Paiute Tribe, Attention: Tribal Chairperson, 653 Anderson Street, Winnemucca, Nevada 89445; Telephone: (775) 623-5151.

T

Te-Moak Tribe of Western Shoshone Indians, Maria Williams, ICWA, 37 Mountain View Drive, Battle Mountain, Nevada 89820; Telephone: (775) 635-9189 Ext. 109.

Tohono O'odham Nation, Office of Attorney General, P.O. Box 830, Sells, Arizona 85634; Telephone: (520) 383-3410.

Tonto Apache Tribe, Jerry Gramm, Social Services Director, Tonto Apache Reservation #30, Payson, Arizona 85541; Telephone: (928) 474-5000, Fax: (928) 474-9125.

U

Ute Indian Tribe, Floyd Wyasket, Social Service Director, Box 190, Fort Duchesne, Utah 84026; Telephone: (435) 725-4026 or (435) 823-0141.

W

Walker River Paiute Tribe, Sandra Hamilton, ICWA Specialist, P.O. Box 146, Schurz, Nevada 89427; Telephone: (775) 773-2058 or 2541; Fax: (775) 773-2096.

Washoe Tribe of Nevada and California, Social Services Director, 919 Hwy, 395 South, Gardnerville, Nevada 89410; Telephone: (775) 883-1446; E-mail: washoetribe.us.

Wells Indian Colony Band Council, Chairman, P.O. Box 809, Wells, Nevada 89835; Telephone: (775) 752-3045.

White Mountain Apache Tribe, Department of Social Services, Attention: Cynthia Burnett, Child Welfare Administrator, P.O. Box 1870, Whiteriver, Arizona 85941; Telephone: (928) 338-4164, Fax: (928) 338-1469.

Winnemucca Tribe, Chairman, P.O. Box 1370, Winnemucca, Nevada 89446.

Y

Yavapai-Apache Nation, Frieda A. Eswonia, Director, ICWA Program Indian Child Welfare Act, Attention: Frieda A. Eswonia, Coordinator, 2400 Datsi Street, Camp Verde, Arizona 86322-8412; Telephone: (928) 567-9439 Ext. 21; Fax: (928) 567-6485; E-mail: feswonia@yan-tribe.org.

Yavapai-Prescott Indian Tribe, Attention: George Noriega, ICWA, 530 East Merritt Avenue, Prescott, Arizona 86301; Telephone: (928) 777-0532; Fax: (928) 541-7945.

Yerington Paiute Tribe, Wayne Garcia, Chairman, 171 Campbell Lane, Yerington, Nevada 89447; Telephone: (775) 463-3301.

Yomba Shoshone Tribe, Dennis J. Bill, Chairman, or Elisha Jim, Eligibility Worker, Social Services Program, HC 61 Box 6275, Austin, Nevada 89310-9301; Telephone: (775) 964-2463.

[FR Doc. E6-12484 Filed 8-1-06; 8:45 am]

BILLING CODE 4310-4J-P